NUCLEAR REGULATORY COMMISSION

10 CFR Chapter I

RIN 3150-AF61

Electronic Maintenance and Submission of Information

AGENCY: Nuclear Regulatory Commission.

ACTION: Direct final rule.

SUMMARY: The Nuclear Regulatory Commission (NRC) is amending its rules to clarify when and how licensees and other members of the public may use electronic means such as CD-ROM and e-mail to communicate with the agency. These amendments are necessary to implement the Government Paperwork Elimination Act (GPEA). At the same time that the NRC is amending its rules, it is also making available for comment, guidance on how to submit documents to the agency electronically. When this direct final rule becomes effective, this new guidance document, which is appended to this rule, will supersede earlier guidance on electronic submissions.

DATES: The final rule will become effective on December 5, 2002, unless significant adverse comments on the amendments are received by October 21, 2002. If the rule is withdrawn as a result of such comments, timely notice will be published in the Federal Register. Comments received after October 21, 2002 will be considered if it is practical to do so, but the NRC is able to ensure only that comments received on or before this date will be considered. The NRC staff will hold a public meeting to answer questions on issues arising from this action on October 3, 2002.

ADDRESSES: Mail written comments to the Secretary, U.S. Nuclear Regulatory Commission, Washington, DC 20555-0001, Attention: Rulemakings and Adjudications Staff.

Deliver comments to: 11555 Rockville Pike, Rockville, Maryland, between 7:30 a.m. and 4:15 p.m. on Federal workdays.

Comments may also be submitted via the NRC's interactive rulemaking Web site at http://ruleforum.llnl.gov. This site permits a commenter to upload comments as files (most formats) if the commenter's Web browser supports that function. For information about the interactive rulemaking site, contact Ms. Carol Gallagher, (301) 415-5905, CAG@nrc.gov.

Copies of comments received may be examined at the NRC Public Document Room (PDR), One White Flint North, First Floor, 11555 Rockville Pike, Rockville, Maryland, or by contacting the PDR by phone at (301) 415-4737 or 1-800-397-4209. Comments received may also be viewed and downloaded electronically via the interactive rulemaking Web site. Comments will also be available electronically for public inspection in the Publicly Available Records System (PARS) Library component of the NRC's Agencywide Documents Access and Management System (ADAMS). ADAMS is accessible from the NRC's Web site at http://www.nrc.gov by selecting “Documents in ADAMS” from the index. If you do not have access to ADAMS, or if you have difficulty accessing the documents in ADAMS, contact the NRC PDR reference staff by phone at 1-800-397-4209 or (301) 415-4737, or by e-mail to pdr@nrc.gov. The guidance the agency is issuing as an appendix to this direct final rule is available at the NRC's Web site, at http://www.nrc.gov/site-help/eie.html, by calling (301) 415-6030, by e-mail to EIE@nrc.gov, or by writing to the Applications Development Division, Office of the Chief Information Officer, at the main NRC address, given under the ADDRESSES heading above.

The public meeting will be held in the auditorium at NRC Headquarters, Two White Flint North, 11545 Rockville, MD, beginning at 8:30 a.m. and ending about 12:30 p.m.

FOR FURTHER INFORMATION CONTACT: John A. Skoczlas, (301) 415-7186, EIE@nrc.gov; or Brenda J. Shelton, (301) 415-7233, bjs1@nrc.gov.

SUPPLEMENTARY INFORMATION:

I. The Direct Final Rule Process

II. Background

III. Action

IV. Section-by-Section Analysis

V. Plain Language

VI. Voluntary Consensus Standards

VII. Environmental Impact: Categorical Exclusion

VIII. Paperwork Reduction Act Statement

IX. Regulatory Analysis

X. Regulatory Flexibility Analysis

XI. Backfit Analysis

XII. Congressional Review

I. The Direct Final Rule Process

This rulemaking has the simple aim of conforming the NRC's regulations to the GPEA by removing from the regulations language that states or suggests an unnecessary prohibition of electronic submission of documents to the agency. Because the NRC believes that this action should not cause controversy, the NRC is using the direct final rule process for this rule. The amendments in this rule will become effective on December 5, 2002. However, if the NRC receives significant adverse comments on this direct final rule by October 21, 2002, the NRC will publish a document that withdraws this action. In that event, the comments received in response to these amendments would then be considered as comments on the companion proposed rule published elsewhere in this Federal Register, and the comments will be addressed in a later final rule based on that proposed rule. Unless the modifications to the proposed rule are significant enough to require that it be republished as a proposed rule, the NRC will not initiate a second comment period on this action.

II. Background

Title XVII of Pub. L. 105-277, the Omnibus Consolidated and Emergency Supplemental Appropriations Act of 1999, enacted October 21, 1998, contains provisions known as the Government Paperwork Elimination Act (GPEA), sections 1701 et seq., codified at 44 U.S.C. 3504, note. The GPEA requires, among other things, that by October 21, 2003, all Federal agencies provide persons with business before that agency the option of electronically maintaining, submitting, or disclosing information, where “practicable.” By that same October 2003 date, the agencies must also accept electronic signatures. The Act's provisions seek mainly to take advantage of advances in modern technology in order to lessen the paperwork burden on those who deal with the Federal government.

Well before the passage of the GPEA, the NRC had taken major steps to increase the use of electronic communication. For example, many of the agency's regulations on recordkeeping have long permitted storage in electronic format. After the GPEA became law, the NRC moved quickly to meet the Act's requirements. In June 1999, the agency began testing a system that permitted holders of operating licenses for nuclear power reactors and the vendors that supplied them to make electronic submissions to the agency in a secure manner. On several occasions, the NRC held public meetings with licensees, vendors, and others to describe and demonstrate its Electronic Information Exchange (EIE) capability.

As a result of this pilot program, on January 26, 2001, the NRC issued Regulatory Issue Summary (RIS) 2001-05, “Guidance on Submitting Documents to the NRC by Electronic Information Exchange or on CD-ROM,” which informs all part 50 applicants and licensees that they have the option of submitting documents to the NRC over the Internet by the EIE process or on CD-ROM under procedures spelled out in the RIS. The RIS does not cover electronic submissions under regulations other than those in Part 50. However, on August 10, 2001, the agency issued a letter to certain fuel cycle facilities that extends to them the option of electronic submissions in many circumstances.¹ Nonetheless, these two documents do not cover other materials licensees or members of the general public.

¹ Last fall, the NRC also issued guidance on managing quality assurance records in electronic media. See RIS 2000-18, October 23, 2002, available at the NRC's Web site.

III. Action

This rulemaking expands participation in electronic submissions by affording all licensees, vendors, applicants, and members of the public the option, where practicable, of submitting documents to the NRC in an electronic format, for example on CD-ROM, by e-mail, or through a special Web-based interface such as the NRC's Electronic Information Exchange. Electronic submission of documents to the NRC remains strictly voluntary; paper documents remain an acceptable form of submission.

Under the amendments in this rule, when an electronic submission is made in a medium other than CD-ROM, only one copy need be submitted to meet the requirements of the regulations, and no paper copy need accompany the electronic submission. However, the amendments in this rule will continue to require multiple copies of paper submissions. Moreover, if a person chooses to submit electronically a document on CD-ROM, the person must submit the same number of CD-ROMs as the number of paper copies required by the regulations, and the CD-ROMs should be accompanied by one signed paper copy.

The guidance that is appended to this rule indicates that a signed paper copy must be included with documents submitted on CD-ROM to avoid sharp increases in NRC's reproduction costs. Large documents submitted on CD-ROM typically contain engineering drawings, other graphics, and color, often intermixed with text. Some of the material is oversized and cannot be viewed easily on standard-sized monitors. Moreover, NRC's experience in using existing technology to produce paper copies of CD-ROMs has proven to be labor intensive and cost prohibitive. Individual files on the CD must be identified as to type, printed out on the printers appropriate to each type—for example, oversize engineering drawings must be printed on specialized equipment—and then reassembled into one correctly ordered document. Until there is technology that allows the NRC staff to produce paper copies of CDs on a single machine, or view drawings on a large enough screen, it is not practicable for the staff to eliminate the need for a paper copy of submissions on CD-ROM. The paper copy allows the NRC to rapidly produce the number of copies sufficient to conduct its business and to make the document available to the public. The NRC believes that having the submitter supply a paper copy is cost effective because a paper copy can be generated at minimal expense when the document is created, but the paper copy can be generated only at considerable expense when it is produced from another medium through a conversion process. This slight increase in costs for the submitter is at least partially offset by avoiding the increase in the NRC's overhead costs, and thus in the fees charged to licensees and applicants, that would result if the NRC produced paper copies from CD-ROM.

Documents submitted via EIE, without special attributes such as 3D images, do not pose the same printing concerns. Thus, paper copies are not required for these documents.

Documents with special attributes, may be submitted on paper or CD-ROM (with a paper copy) but may not be submitted via EIE. See the guidance document, presented as an appendix to this direct final rule for details.

In considering the question of whether a CD-ROM must be accompanied by a paper copy, we have encountered the first of several questions about what is “practicable” to do electronically. The GPEA requires that agencies accept electronic submissions only when it is “practicable” to do so, but the statute does not define the term “practicable.” However, the term tends to acquire meaning in concrete circumstances, in, for example, considering whether the state of technology enables us to dispense entirely with paper copies of applications. The NRC has also had to consider, among other questions, to what extent sensitive information could be protected in electronic submissions, whether such submissions could serve the needs of immediate notification, and whether the agency was prepared to make all of its outgoing communications electronic. In each of these cases, as will be discussed further below, the agency has concluded that electronic submissions are not yet always “practicable,” because use of electronic submission in these other situations can entail disproportionate costs in time, labor, and other resources, and sometimes can even delay doing something that needs to be done quickly. If one aim of the GPEA is to reduce the cost of government, then, when the use of electronic forms of submission adds to that cost, the use of those processes are, at least for the time being, not “practicable.”

What is practicable in a given situation can change quickly because the underlying technology changes quickly. Under these continually changing circumstances, the NRC does not want to write certain technologies into its regulations. Therefore, the technologically driven details of how to make electronic submissions to the NRC are laid out in the guidance document that is appended to this rule for public comment. The guidance document will be updated as necessary to reflect new technology and agency experience. The guidance discusses, among other topics, the formats the NRC is prepared to accept, the use of electronic signatures, and the treatment of nonpublic information. Most of the amendments made by this rule take the limited approach of letting readers of the regulations know that the option of electronic submission is available in many cases, and that readers should consult the agency's guidance on electronic submissions.

When this direct final rule takes effect, the new guidance document will supersede both of the existing guidance documents on electronic submissions—the Regulatory Issue Summary 2001-05, which was directed toward Part 50 applicants and licensees, and the August 10, 2001, letter, which was directed toward certain fuel cycle facilities.

Few of the NRC's regulations on communications explicitly rule out electronic communications. Thus it has not proven difficult to remove regulatory text that impedes electronic communications in circumstances where electronic communications would be practicable. In searching our regulations, we found only one regulation—§ 50.4(c)—that explicitly requires submission of paper. Many of our regulations require written, or written and signed, communications. These requirements need not be changed because electronic communications certainly are “written” and we have in place technology for electronic signatures.

We have not had to propose amendments to our regulations on maintenance of records. A great many of these already explicitly permit the use of electronic means to maintain records, and those that do not explicitly permit electronic maintenance of records do not in any way imply that electronic strategies for preservation are disallowed.

Thus, our amendments are confined largely to regulations that imply that electronic means of communication are prohibited. The typical regulation of this sort says that communications under a certain part of our regulations must be by mail or delivery in person. By appearing to be exhaustive, the regulation may be read to imply that electronic communication is prohibited. We have amended almost all of these or similar provisions, leaving in place only those regulations that dictate telephonic or similar communications when circumstances demand, as, for example, when a licensee must notify the agency immediately of a radiological overexposure or an accidental release of radioactive material.

These amendments and the guidance document appended to this direct final rule do not address the submission of documents in hearings under the NRC regulations in 10 CFR part 2 and other parts that govern hearings. The use of electronic submissions in Federal litigation is being widely discussed, and this rulemaking is not intended to resolve issues of when and how to use electronic submissions during hearings. Separate rules or guidance addressing procedures for electronic communications in hearings will be issued in the future for public comment, but it should be noted that the document format standards outlined in the attached guidance document subsequently may be determined to apply to documents submitted to agency adjudicatory dockets. It is conceivable that, as a result of a future rulemaking proceeding, the current format requirements in 10 CFR part 2, subpart J, for example, could be superseded by the document format standards presented in this guidance document. Accordingly, interested parties should consider the impact the approach outlined in this guidance could have on their preparation of materials for future submission. For at least the near future, parties in hearings must follow the requirements presiding officers establish for submissions.

This direct final rule applies only to communications from licensees, applicants, vendors who are required to submit documents to the NRC, external entities (Federal, state and local governments) and other members of the public to the NRC, but the GPEA is usually read to apply also to communications from Federal agencies to the public. Though the NRC is working to comply with this aspect of the GPEA also, it is not yet practicable for the agency to send all of its communications to licensees and other members of the public by means of electronic submissions. Moreover, the agency must take into account that not all persons who are interested in its work have access to electronic communication. Nonetheless, the NRC posts a large amount of information on its external Web site, including significant agency communications, and makes the information publicly available via ADAMS.

IV. Section-by-Section Analysis

Well over 100 of our regulations are being amended by this direct final rule. However, we are making only a very few kinds of changes, and so an analysis of each and every amended section would be highly repetitious and, more important, would obscure the aims and forms of the amendments. Therefore, rather than describe each amended section, we will describe only the few kinds of changes we are making and why we are making them.

Many of the kinds of changes are adequately represented by the proposed changes to sections of part 30.

(1) The changes to § 30.6, “Communications,” are examples of the most important kind of amendment in this rule. Section 30.6 and its analogues in other parts of the NRC's regulations have typically said that communications are to be mailed or delivered by hand to the agency or one of its regional offices. The amended section makes clear that the current list of options is not exhaustive, and that electronic communications are permitted where “practicable.” The amendment refers readers to guidance for answers to questions about what is practicable and how electronic submissions are to be made. The NRC has developed a guidance document that provides specific information concerning electronic submissions. This guidance document appears as an appendix to this direct final rule. Please note that the guidance document will not be codified in the Code of Federal Regulations.

A variation on § 30.6 requires that paper submissions be on a “page-replacement” basis or that an envelope be marked a certain way. See, for example, § 72.70(c) and § 9.67. We have also amended these regulations to make clear that an electronic option is available on a full replacement basis.

The amendment of § 30.6 illustrates a general principle we have followed throughout the amendments, namely, that the amended regulations should contain no less information than the previous regulations. We had considered saving time and reducing printed regulatory text by leaving existing communications regulations unchanged and simply adding to Chapter I of Title 10 of the Code of Federal Regulations a single new regulation on communications, applicable to communications under every part of the NRC's regulations. This regulation would have said that, with certain exceptions, the electronic option was available, notwithstanding what any other NRC communications regulation said. However, regulations on communications then would have contradicted each other, and readers of one of the other parts could have been misled by the part they were reading into thinking that communications had to be by mail or delivery in person. Thus, to avoid inconsistencies and to ensure that the new regulations contain as much information as the old ones, we have revised any section that, because it mentioned only one or two options for communications, implied that the electronic option was ruled out. Thus, we have been led to amend § 30.6 in several places.

(2) The amendments to § 30.50(c), “Reporting requirements,” and § 30.55 (c), “Tritium reports,” are instances of a second major class of amendment in this direct final rule. The sections amended by this class typically required two or three kinds of notification to the NRC—a more or less immediate notification by phone or sometimes telefax or telegram of an incident, a pending shipment, or other time-sensitive matter; then a followup report several hours later, again by phone, telefax, or telegram; and finally, several days later, a written report to the appropriate office director. Section 30.50 requires all three kinds of reports. Generally speaking, we have not added an electronic option for the first two kinds of reports, because the aims of these required reports are best served by consistently stable, rapid, and fully interactive means of communications. Electronic Information Exchange communications may not yet consistently meet these needs. E-mail delivery times, for example, can still be measured in days sometimes, and even “instant messaging” does not always permit the same facility of information exchange and discussion that the telephone permits. Thus, we have concluded that, at the present time, electronic communication of short-term reports is not yet “practicable.” We will revisit these requirements as the technology advances. Nonetheless, the amendments in this direct final rule add the electronic option for communicating written followup reports required by §§ 30.50 and 30.55, and their analogues.

(3) The amendment to § 30.7(e)(3) is an example of a third class of amendment that is less important than the two that have already been discussed. Several regulations require that a licensee or applicant acquire a copy of an NRC form, either for posting at the licensee's facility (as in the case of § 30.7), for filling out and sending to the NRC to apply for a license, or to meet a reporting requirement. These regulations typically say that the form may be acquired by writing to a certain address or by calling a certain number. The amendments to these sections add that the forms may be acquired by visiting the NRC's Web site.

In addition, we have also reduced copy requirements throughout the regulations. For example, § 51.66 previously required submittal of 25 copies of the Environmental Report and retention of an additional 125 copies for later distribution. The submittal requirement is now being reduced to 5 copies, and instead of being required to retain copies, an applicant will be required to maintain the capability to generate additional copies as directed.

The rule text also makes a number of other minor, administrative changes, such as changes in phone numbers and street and e-mail addresses.

V. Plain Language

The Presidential Memorandum dated June 1, 1998, entitled, “Plain Language in Government Writing,” directed that the Government's writing be in plain language. The NRC requests comments on this direct final rule specifically with respect to the clarity and effectiveness of the language used. Comments should be sent to the address listed under the heading ADDRESSES above.

VI. Voluntary Consensus Standards

The National Technology Transfer and Advancement Act of 1995 (NTTAA), Pub. L. 104-113, requires that Federal agencies use technical standards that are developed or adopted by voluntary consensus standards bodies unless using such a standard is inconsistent with applicable law or otherwise impractical. In this direct final rule, the NRC is not adopting any technical standard. It is simply helping to ensure, through a rulemaking, that the agency will be in timely compliance with the requirement in the Government Paperwork Elimination Act, Pub. L. 105-277, that Federal agencies allow electronic submissions of information where practicable. Thus, no showing of compliance with the NTTAA is necessary here.

VII. Environmental Impact: Categorical Exclusion

The NRC has determined that this direct final rule is the type of action described in categorical exclusion 10 CFR 51.22(c)(2), because this action seeks non-policy, procedural changes to the NRC's regulations. Moreover, because of the broad nature of this action and the number of the NRC's regulations affected, several other categorical exclusions apply to this rule, including 10 CFR 51.22(c)(1), and (3)(i)-(iii). Also, 10 CFR 51.22(c)(16) applies to the guidance being issued in connection with this rule, and to the rule itself. Therefore, neither an environmental impact statement nor an environmental assessment has been prepared for these changes to the regulations. Because of its procedural nature, this action does not raise environmental justice concerns.

VIII. Paperwork Reduction Act Statement

The Office of Management and Budget (OMB) has determined that, because this direct final rule provides the option of collecting information by use of electronic means, but does not amend the existing information collections to which the rule pertains, OMB's review and approval under the Paperwork Reduction Act of 1995 (44 U.S.C. 3501 and following) are not required.

IX. Regulatory Analysis

A regulatory analysis has not been prepared for this rulemaking. The amendments below will neither impose nor relax new safety requirements and, thus, do not call for the sort of safety/cost analysis described in the agency's regulatory analysis guidelines in NUREG/BR-0058. Moreover, the NRC is required by the Government Paperwork Elimination Act, Pub. L. 105-277 (44 U.S.C. 3505, note), to allow electronic submissions where practicable, and the direct final rule does simply that. Thus, an analysis of costs and benefits could not alter a decision to implement the policy embodied in this rule. However, the NRC believes that the rule will afford all persons who deal with the agency greater flexibility in choosing the format of many of their communications and, thus, will allow them to choose less costly alternatives, often reducing the current costs of their communications with the NRC.

X. Regulatory Flexibility Analysis

In accordance with Section 605(b) of the Regulatory Flexibility Act (Title 5, Chapter 6 of the U.S. Code), the Commission certifies that this rule does not have a significant economic impact on a substantial number of small entities. Therefore, in accordance with Section 605(b), the NRC is not preparing a regulatory flexibility analysis. The rule will in fact apply to the many small entities that are among the NRC's licensees, but it will impose no new burdens on those small entities. To the contrary, as noted in the regulatory analysis section of this notice, the agency's expectation is that the rule should reduce burdens.

The NRC invites comment on this certification. The agency is also providing the certification to the Chief Counsel for Advocacy of the SBA, in accordance with Section 605 of the Regulatory Flexibility Act.

XI. Backfit Analysis

The NRC has determined that a backfit analysis is not required for this direct final rule because these amendments do not include any provisions that would require backfits as defined in 10 CFR Chapter I. Furthermore, this rule is necessary so that the NRC can respond adequately to the mandate in the Government Paperwork Elimination Act of 1998 that Federal agencies “provide for the option of the electronic maintenance, submission, or disclosure of information, when practicable as a substitute for paper * * * ” (Pub. L. 105-277, Sec. 1704). Therefore, a backfit analysis has not been prepared for this direct final rule.

XII. Congressional Review

The provisions of 5 U.S.C. Sec. 801 et seq., which govern Congressional review of rulemakings, do not apply to this rulemaking because it concerns agency procedure and practice and will not substantially affect the rights and obligations of non-agency parties. See 5 U.S.C. 804(3)(C).

List of Subjects

10 CFR Part 2

Administrative practice and procedure, Antitrust, Byproduct material, Classified information, Environmental protection, Nuclear materials, Nuclear power plants and reactors, Penalties, Sex discrimination, Source material, Special nuclear material, Waste treatment and disposal.

10 CFR Part 4

Administrative practice and procedure, Blind, Buildings, Civil rights, Employment, Equal employment opportunity, Federal aid programs, Grant programs, Handicapped, Loan programs, Reporting and recordkeeping requirements, Sex discrimination.

10 CFR Part 9

Criminal penalties, Freedom of information, Privacy, Reporting and recordkeeping requirements, Sunshine Act.

10 CFR Part 11

Hazardous materials—transportation, Investigations, Nuclear materials, Reporting and recordkeeping requirements, Security measures, Special nuclear material.

10 CFR Part 15

Administrative practice and procedure, Debt collection.

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 21

Nuclear power plants and reactors, Penalties, Radiation protection, Reporting and recordkeeping requirements.

10 CFR Part 25

Classified information, Criminal penalties, Investigations, Reporting and recordkeeping requirements, Security measures.

10 CFR Part 30

Byproduct material, Criminal penalties, Government contracts, Intergovernmental relations, Isotopes, Nuclear materials, Radiation protection, Reporting and recordkeeping requirements.

10 CFR Part 31

Byproduct material, Criminal penalties, Labeling, Nuclear materials, Packaging and containers, Radiation protection, Reporting and recordkeeping requirements, Scientific equipment.

10 CFR Part 32

Byproduct material, Criminal penalties, Labeling, Nuclear materials, Radiation protection, Reporting and recordkeeping requirements.

10 CFR Part 34

Criminal penalties, Packaging and containers, Radiation protection, Radiography, Reporting and recordkeeping requirements, Scientific equipment, Security measures.

10 CFR Part 35

Byproduct material, Criminal penalties, Drugs, Health facilities, Health professions, Medical devices, Nuclear materials, Occupational safety and health, Radiation protection, Reporting and recordkeeping requirements.

10 CFR Part 39

Byproduct material, Criminal penalties, Nuclear material, Oil and gas exploration—well logging, Reporting and recordkeeping requirements, Scientific equipment, Security measures, Source material, Special nuclear material.

10 CFR Part 40

Criminal penalties, Government contracts, Hazardous materials transportation, Nuclear materials, Reporting and recordkeeping requirements, Source material, Uranium.

10 CFR Part 50

Antitrust, Classified information, Criminal penalties, Fire protection, Intergovernmental relations, Nuclear power plants and reactors, Radiation protection, Reactor siting criteria, Reporting and recordkeeping requirements.

10 CFR Part 51

Administrative practice and procedure, Environmental impact statement, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification.

10 CFR Part 55

Criminal penalties, Manpower training programs, Nuclear power plants and reactors, Reporting and recordkeeping requirements.

10 CFR Part 60

Criminal penalties, High-level waste, Nuclear materials, Nuclear power plants and reactors, Reporting and recordkeeping requirements, Waste treatment and disposal.

10 CFR Part 61

Criminal penalties, Low-level waste, Nuclear materials, Reporting and recordkeeping requirements, Waste treatment and disposal.

10 CFR Part 62

Administrative practice and procedure, Denial of access, Emergency access to low-level waste disposal, Low-level radioactive waste, Low-level radioactive waste treatment and disposal, Low-level waste policy amendments act of 1985, Nuclear materials, Reporting and recordkeeping requirements.

10 CFR Part 63

Criminal penalties, High-level waste, Nuclear power plants and reactors, Reporting and recordkeeping requirements, Waste treatment and disposal.

10 CFR Part 70

Criminal penalties, Hazardous materials transportation, Material control and accounting, Nuclear materials, Packaging and containers, Radiation protection, Reporting and recordkeeping requirements, Scientific equipment, Security measures, Special nuclear material.

10 CFR Part 71

Criminal penalties, Hazardous materials transportation, Nuclear materials, Packaging and containers, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

10 CFR Part 74

Accounting, Criminal penalties, Hazardous materials transportation, Material control and accounting, Nuclear materials, Packaging and containers, Radiation protection, Reporting and recordkeeping requirements, Scientific equipment, Special nuclear material.

10 CFR Part 75

Criminal penalties, Intergovernmental relations, Nuclear materials, Nuclear power plants and reactors, Reporting and recordkeeping requirements, Security measures.

10 CFR Part 76

Certification, Criminal penalties, Radiation protection, Reporting and record keeping requirements, Security measures, Special nuclear material, Uranium enrichment by gaseous diffusion.

10 CFR Part 81

Administrative practice and procedure, Inventions and patents.

10 CFR Part 95

Classified information, Criminal penalties, Reporting and recordkeeping requirements, Security measures.

10 CFR Part 100

Nuclear power plants and reactors, Reactor siting criteria.

10 CFR Part 110

Administrative practice and procedure, Classified information, Criminal penalties, Export, Import, Intergovernmental relations, Nuclear materials, Nuclear power plants and reactors, Reporting and recordkeeping requirements, Scientific equipment.

10 CFR Part 140

Criminal penalties, Extraordinary nuclear occurrence, Insurance, Intergovernmental relations, Nuclear materials, Nuclear power plants and reactors, Reporting and recordkeeping requirements.

10 CFR Part 150

Criminal penalties, Hazardous materials transportation, Intergovernmental relations, Nuclear materials, Reporting and recordkeeping requirements, Security measures, Source material, Special nuclear material.

10 CFR Part 170

Byproduct material, Import and export licenses, Intergovernmental relations, Non-payment penalties, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR Chapter I:

PART 2—RULES OF PRACTICE FOR DOMESTIC LICENSING PROCEEDINGS AND ISSUANCE OF ORDERS

1. The authority citation for Part 2 is revised to read as follows:

Authority: Secs. 161, 181, 68 Stat. 948, 953, as amended (42 U.S.C. 2201, 2231); sec. 191, as amended, Pub. L. 87-615, 76 Stat. 409 (42 U.S.C. 2241); sec. 201, 88 Stat. 1242, as amended (42 U.S.C. 5841); 5 U.S.C. 552; sec. 1704, 112 Stat. 2750 (44 U.S.C. 3504 note).

Section 2.101 also issued under secs. 53, 62, 63, 81, 103, 104, 105, 68 Stat. 930, 932, 933, 935, 936, 937, 938, as amended (42 U.S.C. 2073, 2092, 2093, 2111, 2133, 2134, 2135); sec. 114(f); Pub. L. 97-425, 96 Stat. 2213, as amended (42 U.S.C. 10143(f)); sec. 102, Pub. L. 91-190, 83 Stat. 853, as amended (42 U.S.C. 4332); sec. 301, 88 Stat. 1248 (42 U.S.C. 5871). Section 2.102, 2.103, 2.104, 2.105, 2.721 also issued under secs. 102, 103, 104, 105, 183i, 189, 68 Stat. 936, 937, 938, 954, 955, as amended (42 U.S.C. 2132, 2133, 2134, 2135, 2233, 2239). Section 2.105 also issued under Pub. L. 97-415, 96 Stat. 2073 (42 U.S.C. 2239). Sections 2.200-2.206 also issued under secs. 161 b, i, o, 182, 186, 234, 68 Stat. 948-951, 955, 83 Stat. 444, as amended (42 U.S.C. 2201 (b), (i), (o), 2236, 2282); sec. 206, 88 Stat 1246 (42 U.S.C. 5846). Section 2.205(j) also issued under Pub. L. 101-410, 104 Stat. 90, as amended by section 3100(s), Pub. L. 104-134, 110 Stat. 1321-373 (28 U.S.C. 2461 note). Section 2.600-2.606 also issued under sec. 102, Pub. L. 91-190, 83 Stat. 853, as amended (42 U.S.C. 4332). Section 2.700a, 2.719 also issued under 5 U.S.C. 554. Sections 2.754, 2.760, 2.770, 2.780 also issued under 5 U.S.C. 557. Section 2.764 also issued under secs. 135, 141, Pub. L. 97-425, 96 Stat. 2232, 2241 (42 U.S.C. 10155, 10161). Section 2.790 also issued under sec. 103, 68 Stat. 936, as amended (42 U.S.C. 2133) and 5 U.S.C. 552. Sections 2.800 and 2.808 also issued under 5 U.S.C. 553, Section 2.809 also issued under 5 U.S.C. 553, and sec. 29, Pub. L. 85-256, 71 Stat. 579, as amended (42 U.S.C. 2039). Subpart K also issued under sec. 189, 68 Stat. 955 (42 U.S.C. 2239); sec. 134, Pub. L. 97-425, 96 Stat. 2230 (42 U.S.C. 10154). Subpart L also issued under sec. 189, 68 Stat. 955 (42 U.S.C. 2239). Subpart M also issued under sec. 184 (42 U.S.C. 2234) and sec. 189, 68 Stat. 955 (42 U.S.C. 2239). Appendix A also issued under sec. 6, Pub. L. 91-560, 84 Stat. 1473 (42 U.S.C. 2135).

2. In § 2.206, the second sentence of paragraph (a) is revised to read as follows:

§ 2.206 Requests for action under this subpart.

(a) * * * Requests must be addressed to the Secretary of the Commission and must be filed either by hand delivery to the NRC's Offices at 11555 Rockville Pike, Rockville, Maryland; by mail or telegram addressed to the Secretary, U.S. Nuclear Regulatory Commission, Washington, DC 20555-0001; or by electronic submission, for example, via facsimile, Electronic Information Exchange, e-mail, or CD-ROM. Detailed guidance on making electronic submissions can be obtained by visiting the NRC's Web site at http://www.nrc.gov/site-help/eie.html, by calling (301) 415-6030, by e-mail to EIE@nrc.gov; or by writing to the Applications Development Division, Office of the Chief Information Officer, U.S. Nuclear Regulatory Commission, Washington, DC 20555-0001. * * *

* * * * *

3. In § 2.802, paragraph (a) and the second sentence of the introductory text of paragraph (b) are revised to read as follows:

§ 2.802 Petition for rulemaking.

(a) Any interested person may petition the Commission to issue, amend or rescind any regulation. The petition should be addressed to the Secretary, Attention: Rulemakings and Adjudications Staff, and sent either by mail addressed to the U.S. Nuclear Regulatory Commission, Washington, DC 20555-0001; by facsimile; by hand delivery to the NRC's offices at 11555 Rockville Pike, Rockville, Maryland; or, where practicable, by electronic submission, for example, via Electronic Information Exchange, e-mail, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

(b) * * * A prospective petitioner also may telephone the Rules and Directives Branch on (301) 415-7163, or toll free on (800) 368-5642, or e-mail to NRCREP@nrc.gov.

* * * * *

PART 4—NONDISCRIMINATION IN FEDERALLY ASSISTED COMMISSION PROGRAMS

4. The authority citation for part 4 is revised to read as follows:

Authority: Sec. 161, 68 Stat. 948, as amended (42 U.S.C. 2201); sec. 274, 73 Stat. 688, as amended (42 U.S.C. 2021); sec. 201, 88 Stat. 1242, as amended (42 U.S.C. 5841); sec. 1704, 112 Stat. 2750 (44 U.S.C. 3504 note).

Subpart A also issued under secs. 602-605, Pub. L. 88-352, 78 Stat. 252, 253 (42 U.S.C. 2000d-1-2000d-4); sec. 401, 88 Stat. 1254 (42 U.S.C. 5891).

Subpart B also issued under sec. 504, Pub. L. 93-112, 87 Stat. 394 (29 U.S.C. 706); sec. 119, Pub. L. 95-602, 92 Stat. 2984 (29 U.S.C. 794); sec. 122, Pub. L. 95-602, 92 Stat. 2984 (29 U.S.C. 706(6)).

Subpart C also issued under Title III of Pub. L. 94-135, 89 Stat. 728, as amended (42 U.S.C. 6101).

Subpart E also issued under 29 U.S.C. 794.

5. Section 4.5 is revised to read as follows:

§ 4.5 Communications and reports.

Except as otherwise indicated, communications and reports relating to this part may be sent to the NRC by mail addressed to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

6. In § 4.570, paragraph (c) is revised to read as follows:

§ 4.570 Compliance procedures.

* * * * *

(c) The Civil Rights Program Manager, Office of Small Business and Civil Rights, shall be responsible for coordinating implementation of this section. Complaints should be sent to the NRC using an appropriate method listed in § 4.5.

* * * * *

PART 9—PUBLIC RECORDS

7. The authority citation for Part 9 is revised to read as follows:

Authority: Sec. 161, 68 Stat. 948, as amended (42 U.S.C. 2201); sec. 201, 88 Stat. 1242, as amended (42 U.S.C. 5841); sec. 1704, 112 Stat. 2750 (44 U.S.C. 3504 note).

Subpart A also issued under 5 U.S.C. 552; 31 U.S.C. 9701; Pub. L. 99-570.

Subpart B is also issued under 5 U.S.C. 552a.

Subpart C also issued under 5 U.S.C. 552b.

8. Section 9.6 is added to read as follows:

§ 9.6 Communications.

Except as otherwise indicated, communications relating to this part may be sent to the NRC by mail addressed to the U.S. Nuclear Regulatory Commission, Washington, DC 20555-0001; by hand delivery to the NRC's offices at 11555 Rockville Pike, Rockville, Maryland; or, where practicable, by electronic submission via e-mail to the FOIA e-mail address. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

9. In § 9.23, the first and second sentences of paragraph (b) are revised to read as follows:

§ 9.23 Request for records.

* * * * *

(b) A person may request agency records by submitting a request authorized by 5 U.S.C. 552(a)(3) to the Freedom of Information Act and Privacy Act Officer, Office of the Chief Information Officer, by an appropriate method listed in § 9.6. The request should be clearly marked “Freedom of Information Act Request.” * * *

* * * * *

10. In § 9.29, the second and fifth sentences of paragraph (a) are revised to read as follows:

§ 9.29 Appeal from initial determination.

(a) * * * For agency records denied by an Office Director reporting to the Executive Director for Operations, the appeal should be addressed to the Executive Director for Operations and sent using an appropriate method listed in § 9.6. * * * The appeal should be clearly marked “Appeal from Initial FOIA Decision.” * * *

* * * * *

11. In § 9.41, paragraph (a)(2) is revised to read as follows:

§ 9.41 Requests for waiver or reduction of fees.

(a) * * *

(2) Each request for a waiver or reduction of fees should be addressed to the Freedom of Information Act and Privacy Act Officer, Office of the Chief Information Officer, and sent using an appropriate method listed in § 9.6.

* * * * *

12. In § 9.53, paragraph (a) and the first sentence of paragraph (b) are revised to read as follows:

§ 9.53 Requests; how and where presented.

(a) Requests may be made in person or in writing. Assistance regarding requests or other matters relating to the Privacy Act of 1974 may be obtained by writing to the Freedom of Information Act and Privacy Act Officer, by an appropriate method listed in § 9.6. Requests relating to records in multiple systems of records should be made to the same Officer. That Officer shall assist the requestor in identifying his request more precisely and shall be responsible for forwarding the request to the appropriate system manager.

(b) All written requests must be made to the Freedom of Information Act and Privacy Act Officer, by an appropriate method listed in § 9.6, and should be clearly marked “Privacy Act Request,” “Privacy Act Disclosure Accounting Request,” or “Privacy Act Correction Request,” as appropriate. * * *

* * * * *

13. In § 9.65, the third and fifth sentences of paragraph (b) are revised to read as follows:

§ 9.65 Access determinations; appeals.

* * * * *

(b) * * * For agency records denied by the Assistant Inspector General for Investigations, the appeal must be in writing, addressed to the Inspector General, and sent by an appropriate method listed in § 9.6. * * * The appeal should be clearly marked “Privacy Act Appeal—Denial of Access.” * * *

* * * * *

14. In § 9.66, the third and fourth sentences of paragraph (b) are revised to read as follows:

§ 9.66 Determinations authorizing or denying correction of records; appeals.

* * * * *

(b) * * * The appeal must be in writing, addressed to the Freedom of Information Act and Privacy Act Officer, and sent by an appropriate method listed in § 9.6, for submission to the appropriate appellate authority for a final determination. The appeal should be clearly marked “Privacy Act Correction Appeal.” * * *

* * * * *

15. In § 9.67, the second sentence of paragraph (a) is revised to read as follows:

§ 9.67 Statements of disagreement.

(a) * * * “Statements of Disagreement” must be addressed, as appropriate, to the Inspector General or the Executive Director for Operations, and sent by an appropriate method listed in § 9.6. They should also be clearly marked “Privacy Act Statement of Disagreement.”

* * * * *

PART 11—CRITERIA AND PROCEDURES FOR DETERMINING ELIGIBILITY FOR ACCESS TO OR CONTROL OVER SPECIAL NUCLEAR MATERIAL

16. The authority citation for Part 11 is revised to read as follows:

Authority: Sec. 161, 68 Stat. 948, as amended (42 U.S.C. 2201); sec. 201, 88 Stat. 1242, as amended (42 U.S.C. 5841); sec. 1704, 112 Stat. 2750 (44 U.S.C. 3504 note).

Section 11.15(e) also issued under sec. 501, 85 Stat. 290 (31 U.S.C. 483a).

17. In § 11.15, the first sentence of paragraph (a)(1) is revised to read as follows:

§ 11.15 Application for special nuclear material access authorization.

(a)(1) Application for special nuclear material access authorization, renewal, or change in level must be filed by the licensee on behalf of the applicant with the Director, Division of Facilities and Security, Mail Stop T7-D57, either by mail addressed to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. * * *

* * * * *

PART 15—DEBT COLLECTION PROCEDURES

18. The authority citation for Part 15 is revised to read as follows:

Authority: Secs. 161, 186, 68 Stat. 948, 955, as amended (42 U.S.C. 2201, 2236); sec. 201, 88 Stat. 1242, as amended (42 U.S.C. 5841); sec. 1, Pub. L. 97-258, 96 Stat. 972 (31 U.S.C. 3713); sec. 5, Pub. L. 89-508, 80 Stat. 308, as amended (31 U.S.C. 3716); Pub. L. 97-365, 96 Stat. 1749 (31 U.S.C. 3719); Federal Claims Collection Standards, 31 CFR Chapter IX, parts 900-904; 31 U.S.C. 3701, 3716; 31 CFR part 285; 26 U.S.C. 6402(d); 31 U.S.C. 3720A; 26 U.S.C. 6402(c); 42 U.S.C. 664; Pub. L. 104-134, as amended (31 U.S.C. 3713); 5 U.S.C. 5514; Executive Order 12146 (3 CFR 1980 Comp. pp. 409-412); Executive Order 12988 (3 CFR, 1996 Comp., pp. 157-163).

19. Section 15.3 is revised to read as follows:

§ 15.3 Communications.

Unless otherwise specified, communications concerning the regulations in this part may be addressed to the Secretary of the Nuclear Regulatory Commission and sent either by mail to the U.S. Nuclear Regulatory Commission, Washington, DC 20555-0001, ATTN: Rulemakings and Adjudications Staff; by hand delivery to the NRC's offices at 11555 Rockville Pike, One White Flint North, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

PART 19—NOTICES, INSTRUCTIONS AND REPORTS TO WORKERS: INSPECTION AND INVESTIGATIONS

20. The authority citation for Part 19 is revised to read as follows:

Authority: Secs. 53, 63, 81, 103, 104, 161, 186, 68 Stat. 930, 933, 935, 936, 937, 948, 955, as amended, sec. 234, 83 Stat. 444, as amended, sec. 1701, 106 Stat. 2951, 2952, 2953 (42 U.S.C. 2073, 2093, 2111, 2133, 2134, 2201, 2236, 2282, 2297f); sec. 201, 88 Stat. 1242, as amended (42 U.S.C. 5841); Pub. L. 95-601, sec. 10, 92 Stat. 2951 (42 U.S.C. 5851); sec. 1704, 112 Stat. 2750 (44 U.S.C. 3504 note).

21. In § 19.11, paragraph (c)(2) is revised to read as follows:

§ 19.11 Posting of notices to workers.

* * * * *

(c) * * *

(2) Additional copies of NRC Form 3 may be obtained by writing to the Regional Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

22. In § 19.17, the second sentence of paragraph (a) is revised to read as follows:

§ 19.17 Inspections not warranted; informal review.

(a) * * * The complainant may obtain review of this determination by submitting a written statement of position to the Executive Director for Operations, either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. The Executive Director for Operations will provide the licensee with a copy of such statement by certified mail, excluding, at the request of the complainant, the name of the complainant. * * *

* * * * *

PART 20—STANDARDS FOR PROTECTION AGAINST RADIATION

23. The authority citation for Part 20 is revised to read as follows:

Authority: Secs. 53, 63, 65, 81, 103, 104, 161, 182, 186, 68 Stat. 930, 933, 935, 936, 937, 948, 953, 955, as amended, sec. 1701, 106 Stat. 2951, 2952, 2953 (42 U.S.C. 2073, 2093, 2095, 2111, 2133, 2134, 2201, 2232, 2236, 2297f), secs. 201, as amended, 202, 206, 88 Stat. 1242, as amended, 1244, 1246 (42 U.S.C. 5841, 5842, 5846); sec. 1704, 112 Stat. 2750 (44 U.S.C. 3504 note).

24. Section 20.1007 is revised to read as follows:

§ 20.1007 Communications.

Unless otherwise specified, communications or reports concerning the regulations in this part should be addressed to the Executive Director for Operations (EDO), and sent either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

25. In § 20.2203, paragraph (d) is revised to read as follows:

§ 20.2203 Reports of exposures, radiation levels, and concentrations of radioactive material exceeding the constraints or limits.

* * * * *

(d) All licensees, other than those holding an operating license for a nuclear power plant, who make reports under paragraph (a) of this section shall submit the report in writing either by mail addressed to the U.S. Nuclear Regulatory Commission, ATTN: Document Control Desk, Washington, DC 20555-0001; by hand delivery to the NRC's offices at 11555 Rockville Pike, Rockville, Maryland; or, where practicable, by electronic submission, for example, Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. A copy should be sent to the appropriate NRC Regional Office listed in Appendix D to this part.

26. In § 20.2206, paragraph (c) is revised to read as follows:

§ 20.2206 Reports of individual monitoring.

* * * * *

(c) The licensee shall file the report required by § 20.2206(b), covering the preceding year, on or before April 30 of each year. The licensee shall submit the report to the REIRS Project Manager by an appropriate method listed in § 20.1007.

27. Appendix D to Part 20 is revised to read as follows:

Appendix D to Part 20—United States Nuclear Regulatory Commission Regional Offices
Region | Address | Telephone (24 hour) | E-Mail
Region I: Connecticut, Delaware, District of Columbia, Maine, Maryland, Massachusetts, New Hampshire, New Jersey, New York, Pennsylvania, Rhode Island, and Vermont | USNRC, Region I, 475 Allendale Road, King of Prussia, PA 19406 | (610) 337-5000 (FTS) 346-5000 | RidsRegion1 MailCenter@ nrc.gov.
Region II: Alabama, Florida, Georgia, Kentucky, Mississippi, North Carolina, Puerto Rico, South Carolina, Tennessee, Virginia, Virgin Islands, and West Virginia | USNRC, Region II, Atlanta Federal Center, 61 Forsyth Street, SW, Suite 23T85, Atlanta, GA 30303 | (404) 562-4400 (FTS) 346-5000 | RidsRegion2 MailCenter@ nrc.gov.
Region III: Illinois, Indiana, Iowa, Michigan, Minnesota, Missouri, Ohio and Wisconsin | USNRC, Region III, 801 Warrenville Road, Lisle, IL 60532 | (708) 829-9500 (FTS) 829-9500 | RidsRegion3MailCenter@nrc.gov.
Region IV: Alaska, Arizona, Arkansas, California, Colorado, Hawaii, Idaho, Kansas, Louisiana, Montana, Nebraska, Nevada, New Mexico, North Dakota, Oklahoma, Oregon, South Dakota, Texas, Utah, Washington, Wyoming, and the U.S. territories and possessions in the Pacific | USNRC, Region IV, 611 Ryan Plaza Drive, Suite 400, Arlington, TX 76011 | (817) 860-8100 (FTS) 728-8100 | RidsRegion4MailCenter@nrc.gov.

28. In Appendix G to Part 20, the third paragraph under 1. MANIFEST is revised to read as follows:

Appendix G to Part 20—Requirements for Transfers of Low-Level Radioactive Waste Intended for Disposal at Licensed Land Disposal Facilities and Manifests

I. Manifest

* * * * *

NRC Forms 540, 540A, 541, 541A, 542 and 542A, and the accompanying instructions, in hard copy, may be obtained by writing or calling the Publishing Services Branch, Office of the Chief Information Officer, U.S. Nuclear Regulatory Commission, Washington, DC 20555-0001, telephone (301) 415-5877, or by visiting the NRC's Web site at http://www.nrc.gov and selecting forms from the index found on the home page.

* * * * *

PART 21—REPORTING OF DEFECTS AND NONCOMPLIANCE

29. The authority citation for Part 21 is revised to read as follows:

Authority: Sec. 161, 68 Stat. 948, as amended, sec. 234, 83 Stat. 444, as amended, sec. 1701, 106 Stat. 2951, 2953 (42 U.S.C. 2201, 2282, 2297f); secs. 201, as amended, 206, 88 Stat. 1242, as amended, 1246 (42 U.S.C. 5841, 5846); sec. 1704, 112 Stat. 2750 (44 U.S.C. 3504 note).

Section 21.2 also issued under secs. 135, 141, Pub. L. 97-425, 96 Stat. 2232, 2241 (42 U.S.C. 10155, 10161).

30. Section 21.5 is revised to read as follows:

§ 21.5 Communications.

Except where otherwise specified in this part, written communications and reports concerning the regulations in this part must be addressed to the NRC's Document Control Desk, and sent either by mail to the U.S. Nuclear Regulatory Commission, Washington, DC 20555-0001; by hand delivery to the NRC's offices at 11555 Rockville Pike, Rockville, Maryland; or, where practicable, by electronic submission, for example, Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. In the case of a licensee, a copy of the communication must also be sent to the appropriate Regional Administrator at the address specified in Appendix D to Part 20 of this chapter.

PART 25—ACCESS AUTHORIZATION FOR LICENSEE PERSONNEL

31. The authority citation for Part 25 is revised to read as follows:

Authority: Secs. 145, 161, 68 Stat. 942, 948, as amended (42 U.S.C. 2165, 2201); sec. 201, 88 Stat. 1242, as amended (42 U.S.C. 5841); sec. 1704, 112 Stat. 2750 (44 U.S.C. 3504 note); E.O. 10865, as amended, 3 CFR 1959—1963 Comp., p. 398 (50 U.S.C. 401, note); E.O. 12829, 3 CFR, 1993 Comp., p. 570; E.O. 12958, 3 CFR, 1995 Comp., p. 333; E.O. 12968, 3 CFR, 1995 Comp., p. 396.

Appendix A also issued under 96 Stat. 1051 (31 U.S.C. 9701).

32. Section 25.9 is revised to read as follows:

§ 25.9 Communications.

Except where otherwise specified, communications and reports concerning the regulations in this part should be addressed to the Director, Division of Facilities and Security, Mail Stop T7-D57, and sent either by mail to the U.S. Nuclear Regulatory Commission, Washington, DC 20555-0001; by hand delivery to the NRC's offices at 11555 Rockville Pike, Rockville, Maryland; or, where practicable, by electronic submission, for example, Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

PART 30—RULES OF GENERAL APPLICABILITY TO DOMESTIC LICENSING OF BYPRODUCT MATERIAL

33. The authority citation for Part 30 is revised to read as follows:

Authority: Secs. 81, 82, 161, 182, 183, 186, 68 Stat. 935, 948, 953, 954, 955, as amended, sec. 234, 83 Stat. 444, as amended (42 U.S.C. 2111, 2112, 2201, 2232, 2233, 2236, 2282); secs. 201 as amended, 202, 206, 88 Stat. 1242, as amended, 1244, 1246 (42 U.S.C. 5841, 5842, 5846); sec. 1704, 112 Stat. 2750 (44 U.S.C. 3504 note).

Section 30.7 also issued under Pub. L. 95-601, sec. 10, 92 Stat. 2951 as amended by Pub. L. 102-486, sec. 2902, 106 Stat. 3123 (42 U.S.C. 5851). Section 30.34(b) also issued under sec. 184, 68 Stat. 954, as amended (42 U.S.C. 2234). Section 30.61 also issued under sec. 187, 68 Stat. 955 (42 U.S.C. 2237).

34. In § 30.6, paragraph (a)(3) is added, and paragraphs (a)(1) and (a)(2), the introductory text of paragraph (b), and the last sentences of paragraphs (b)(2)(i), (b)(2)(ii), (b)(2)(iii), and (b)(2)(iv) are revised, to read as follows:

§ 30.6 Communications.

(a) * * *

(1) By mail addressed: ATTN: Document Control Desk, Director, Office of Nuclear Material Safety and Safeguards, U.S. Nuclear Regulatory Commission, Washington, DC 20555-0001.

(2) By hand delivery to the NRC's offices at 11555 Rockville Pike, Rockville, Maryland.

(3) Where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

(b) The Commission has delegated to the four Regional Administrators licensing authority for selected parts of its decentralized licensing program for nuclear materials as described in paragraph (b)(1) of this section. Any communication, report, or application covered under this licensing program must be submitted to the appropriate Regional Administrator. The Administrators' jurisdictions and mailing addresses are listed in paragraph (b)(2) of this section.

* * * * *

(2) * * *

(i) * * * All mailed or hand-delivered inquiries, communications, and applications for a new license or an amendment or renewal of an existing license specified in paragraph (b)(1) of this section must use the following address: U.S. Nuclear Regulatory Commission, Region I, Nuclear Material Section B, 475 Allendale Road, King of Prussia, Pennsylvania 19406; Where e-mail is appropriate it should be addressed to RidsRgn1MailCenter@nrc.gov.

(ii) * * * All mailed or hand-delivered inquiries, communications, and applications for a new license or an amendment or renewal of an existing license specified in paragraph (b)(1) of this section must use the following address: U.S. Nuclear Regulatory Commission, Region II, Material Licensing/Inspection Branch, Atlanta Federal Center, 61 Forsyth Street, SW, Suite 23T85, Atlanta, GA 30303; Where e-mail is appropriate it should be addressed to RidsRgn2MailCenter@nrc.gov.

(iii) * * * All mailed or hand-delivered inquiries, communications, and applications for a new license or an amendment or renewal of an existing license specified in paragraph (b)(1) of this section must use the following address: U.S. Nuclear Regulatory Commission, Region III, Material Licensing Section, 801 Warrenville Road, Lisle, Illinois 60532-4351; Where e-mail is appropriate it should be addressed to RidsRgn3MailCenter@nrc.gov.

(iv) * * * All mailed or hand-delivered inquiries, communications, and applications for a new license or an amendment or renewal of an existing license specified in paragraph (b)(1) of this section must use the following address: U.S. Nuclear Regulatory Commission, Region IV, Material Radiation Protection Section, 611 Ryan Plaza Drive, Suite 400, Arlington, Texas 76011; Where e-mail is appropriate it should be addressed to RidsRgn4MailCenter@nrc.gov.

35. In § 30.7, paragraph (e)(3) is revised to read as follows:

§ 30.7 Employee protection.

* * * * *

(e) * * *

(3) Copies of NRC Form 3 may be obtained by writing to the Regional

Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

36. In § 30.50, the third sentence of paragraph (c)(2) is revised to read as follows:

§ 30.50 Reporting requirements.

* * * * *

(c) * * *

(2) * * * These written reports must be sent to the NRC using an appropriate method listed in § 30.6(a); and a copy must be sent to the appropriate NRC Regional office listed in Appendix D to Part 20 of this chapter. * * *

* * * * *

37. In § 30.55, the third sentence of paragraph (c) is revised to read as follows:

§ 30.55 Tritium reports.

* * * * *

(c) * * * Copies of such written report shall be sent to the Director of the NRC's Office of Nuclear Material Safety and Safeguards, using an appropriate method listed in § 30.6(a). * * *

* * * * *

PART 31—GENERAL DOMESTIC LICENSES FOR BYPRODUCT MATERIAL

38. The authority citation for Part 31 is revised to read as follows:

Authority: Secs. 81, 161, 183, 68 Stat. 935, 948, 954, as amended (42 U.S.C. 2111, 2201, 2233); secs. 201, as amended, 202, 88 Stat. 1242, as amended,1244 (42 U.S.C. 5841, 5842); sec. 1704, 112 Stat. 2750 (44 U.S.C. 3504 note).

39. In § 31.5, the introductory text of paragraph (c)(8)(ii), the third sentence of the introductory text of paragraph (c)(9)(i), and the second sentence of paragraph (c)(11) are revised to read as follows:

§ 31.5 Certain detecting, measuring, gauging, or controlling devices and certain devices for producing light or an ionized atmosphere.

* * * * *

(c) * * *

(8) * * *

(ii) Shall, within 30 days after the transfer of a device to a specific licensee or export, furnish a report to the Director of Nuclear Material Safety and Safeguards, ATTN: GLTS, using an appropriate method listed in § 30.6(a) of this chapter. The report must contain—

* * * * *

(9) * * *

(i) * * * Within 30 days of the transfer, the transferor shall report to the Director of Nuclear Material Safety and Safeguards, ATTN: GLTS, using an appropriate method listed in § 30.6(a) of this chapter—

* * * * *

(11) * * * If the general licensee cannot provide the requested information within the allotted time, it shall, within that same time period, request a longer period to supply the information by providing the Director of the Office of Nuclear Material Safety and Safeguards, by an appropriate method listed in § 30.6(a) of this chapter, a written justification for the request.

* * * * *

40. In § 31.11, paragraph (b)(1) is revised to read as follows:

§ 31.11 General license for use of byproduct material for certain in vitro clinical or laboratory testing.

* * * * *

(b) * * *

(1) Has filed NRC Form 483, “Registration Certificate—In Vitro Testing with Byproduct Material Under General License,” with the Director of Nuclear Material Safety and Safeguards, by an appropriate method listed in § 30.6(a), and has received from the Commission a validated copy of NRC Form 483 with a registration number assigned; or

* * * * *

PART 32—SPECIFIC DOMESTIC LICENSES TO MANUFACTURE OR TRANSFER CERTAIN ITEMS CONTAINING BYPRODUCT MATERIAL

41. The authority citation for Part 31 is revised to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note).

42. In § 32.12, paragraph (a) is revised to read as follows:

§ 32.12 Same: Records and material transfer reports.

(a) Each person licensed under § 32.11 shall maintain records of transfer of material and file a report with the Director of Nuclear Material Safety and Safeguards by an appropriate method listed in § 30.6(a) of this chapter. A copy of the report must be sent to the appropriate NRC Regional Office listed in Appendix D to Part 20 of this chapter.

* * * * *

43. In § 32.16, paragraph (a) is revised to read as follows:

§ 32.16 Certain items containing byproduct material: Records and reports of transfer.

(a) Each person licensed under § 32.14 or § 32.17 shall maintain records of transfer of material and file a report with the Director of Nuclear Material Safety and Safeguards by an appropriate method listed in § 30.6(a) of this chapter, with a copy to the appropriate NRC Regional Office listed in Appendix D to Part 20 of this chapter.

* * * * *

44. In § 32.20, paragraph (b) is revised to read as follows:

§ 32.20 Same: Records and material transfer reports.

* * * * *

(b) The licensee shall file a summary report stating the total quantity of each isotope transferred under the specific license with the Director of Nuclear Material Safety and Safeguards by an appropriate method listed in § 30.6(a) of this chapter, with a copy to the appropriate NRC Regional Office listed in Appendix D to Part 20 of this chapter.

* * * * *

45. In § 32.25, the introductory text of paragraph (c) is revised to read as follows:

§ 32.25 Conditions of licenses issued under § 32.22: Quality control, labeling, and reports of transfer.

* * * * *

(c) Maintain records and file reports with the Director of Nuclear Material Safety and Safeguards, by an appropriate method listed in § 30.6(a), with copies to the appropriate NRC Regional Office listed in Appendix D to Part 20 of this chapter.

* * * * *

46. In § 32.52, the first sentence of the introductory text of paragraph (a) is revised to read as follows:

§ 32.52 Same: Material transfer reports and records.

* * * * *

(a) The person shall report to the Director of Nuclear Material Safety and Safeguards, ATTN: GLTS, by an appropriate method listed in § 30.6(a), all transfers of such devices to persons for use under the general license in § 31.5 of this chapter and all receipts of devices from persons licensed under § 31.5 of this chapter. * * *

* * * * *

47. The first sentence of § 32.56 is revised to read as follows:

§ 32.56 Same: Material transfer reports.

Each person licensed under § 32.53 shall file an annual report with the Director of Nuclear Material Safety and Safeguards, by an appropriate method listed in § 30.6(a) of this chapter, which report must state the total quantity of tritium or promethium-147 transferred to persons generally licensed under § 31.7 of this chapter. * * *

48. In § 32.210, paragraph (b) is revised to read as follows:

§ 32.210 Registration of product information.

* * * * *

(b) The request for review must be sent to the NRC's Office of Nuclear Material Safety and Safeguards, Materials Safety and Inspection Branch, by an appropriate method listed in § 30.6(a) of this chapter.

* * * * *

PART 34—LICENSES FOR INDUSTRIAL RADIOGRAPHY AND RADIATION SAFETY REQUIREMENTS FOR INDUSTRIAL RADIOGRAPHIC OPERATIONS

49. The authority citation for Part 34 is revised to read as follows:

Authority: Secs. 81, 161, 182, 183, 68 Stat. 935, 948, 953, 954, as amended (42 U.S.C. 2111, 2201, 2232, 2233); sec. 201, 88 Stat. 1242, as amended (42 U.S.C. 5841). Section 34.45 also issued under sec. 206, 88 Stat. 1246 (42 U.S.C. 5846); sec. 1704, 112 Stat. 2750 (44 U.S.C. 3504 note).

50. In § 34.27, the third sentence of paragraph (d) is revised to read as follows:

§ 34.27 Leak testing and replacement of sealed sources.

* * * * *

(d) * * * A report must be filed with the Director of Nuclear Material Safety and Safeguards, by an appropriate method listed in § 30.6(a) of this chapter, the report to be filed within 5 days of any test with results that exceed the threshold in this subsection, and to describe the equipment involved, the test results, and the corrective action taken. * * *

* * * * *

51. In § 34.43, the second sentence of paragraph (a)(1) is revised to read as follows:

§ 34.43 Training.

(a) * * *

(1) * * * (An independent organization that would like to be recognized as a certifying entity shall submit its request to the Director, Office of Nuclear Material Safety and Safeguards, by an appropriate method listed in § 30.6(a) of this chapter.) or

* * * * *

52. In § 34.101, the introductory text of paragraph (a) is revised to read as follows:

§ 34.101 Notifications.

(a) In addition to the reporting requirements specified in § 30.50 and under other sections of this chapter, such as § 21.21, each licensee shall send a written report to the NRC's Office of Nuclear Material Safety and Safeguards, Division of Industrial and Medical Nuclear Safety, by an appropriate method listed in § 30.6(a) of this chapter, with a copy to the Director of the NRC's Office of Nuclear Regulatory Research, within 30 days of the occurrence of any of the following incidents involving radiographic equipment:

* * * * *

PART 35—MEDICAL USE OF BYPRODUCT MATERIAL

53. The authority citation for Part 35 is revised to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note).

54. In § 35.14, paragraph (b), introductory text, and paragraph (c), are revised to read as follows:

§ 35.14 Notifications.

* * * * *

(b) A licensee shall notify the Commission no later than 30 days after:

* * * * *

(c) The licensee shall send the documents required in this section to the appropriate address identified in § 30.6 of this chapter.

55. In § 35.59, paragraph (e)(2) is revised to read as follows:

§ 35.59 Requirements for possession of sealed sources and brachytherapy sources.

* * * * *

(e) * * *

(2) File a report within five days of the leakage test with the appropriate NRC Office listed in § 30.6 of this chapter, with a copy to the Director of the NRC's Office of Nuclear Material Safety and Safeguards, by an appropriate method listed in § 30.6 of this chapter, describing the equipment involved, the test results, and the action taken.

* * * * *

PART 39—LICENSES AND RADIATION SAFETY REQUIREMENTS FOR WELL LOGGING

56. The authority citation for Part 39 is revised to read as follows:

Authority: Secs. 53, 57, 62, 63, 65, 69, 81, 82, 161, 182, 183, 186, 68 Stat. 929, 930, 932, 933, 934, 935, 948, 953, 954, 955, as amended, sec. 234, 83 Stat. 444, as amended (42 U.S.C. 2073, 2077, 2092, 2093, 2095, 2099, 2111, 2112, 2201, 2232, 2233, 2236, 2282); secs. 201, as amended, 202, 206, 88 Stat. 1242, as amended, 1244, 1246 (42 U.S.C. 5841, 5842, 5846); sec. 1704, 112 Stat. 2750 (44 U.S.C. 3504 note).

57. In § 39.77, paragraph (a) is revised to read as follows:

§ 39.77 Notification of incidents and lost sources; abandonment procedures for irretrievable sources.

(a) The licensee shall immediately notify the appropriate NRC Regional Office by telephone and subsequently, within 30 days, by confirmation in writing, using an appropriate method listed in § 30.6(a) of this chapter, if the licensee knows or has reason to believe that a sealed source has been ruptured. The written confirmation must designate the well or other location, describe the magnitude and extent of the escape of licensed materials, assess the consequences of the rupture, and explain efforts planned or being taken to mitigate these consequences.

* * * * *

PART 40—DOMESTIC LICENSING OF SOURCE MATERIAL

58. The authority citation for Part 40 is revised to read as follows:

Authority: Secs. 62, 63, 64, 65, 81, 161, 182, 183, 186, 68 Stat. 932, 933, 935, 948, 953, 954, 955, as amended, secs. 11e(2), 83, 84, Pub. L. 95-604, 92 Stat. 3033, as amended, 3039, sec. 234, 83 Stat. 444, as amended (42 U.S.C. 2014(e)(2), 2092, 2093, 2094, 2095, 2111, 2113, 2114, 2201, 2232, 2233, 2236, 2282); sec. 274, Pub. L. 86-373, 73 Stat. 688 (42 U.S.C. 2021); secs. 201, as amended, 202, 206, 88 Stat. 1242, as amended, 1244, 1246 (42 U.S.C. 5841, 5842, 5846); sec. 275, 92 Stat. 3021, as amended by Pub. L. 97-415, 96 Stat. 2067 (42 U.S.C. 2022); sec. 193, 104 Stat. 2835, as amended by Pub. L. 104-134, 110 Stat. 1321, 1321-349 (42 U.S.C. 2243); sec. 1704, 112 Stat. 2750 (44 U.S.C. 3504 note).

Section 40.7 also issued under Pub. L. 95-601, sec. 10, 92 Stat. 2951 (42 U.S.C. 5851). Section 40.31(g) also issued under sec. 122, 68 Stat. 939 (42 U.S.C. 2152). Section 40.46 also issued under sec. 184, 68 Stat. 954, as amended (42 U.S.C. 2234). Section 40.71 also issued under sec. 187, 68 Stat. 955 (42 U.S.C. 2237).

59. In § 40.5, paragraph (a)(3) is added, and paragraphs (a)(1) and (a)(2), the introductory text of paragraph (b), and the last sentences of paragraphs (b)(2)(i), (b)(2)(ii), (b)(2)(iii), and (b)(2)(iv) are revised, to read as follows:

§ 40.5 Communications.

(a) * * *

(1) By mail addressed: ATTN: Document Control Desk, Director, Office of Nuclear Material Safety and Safeguards, U.S. Nuclear Regulatory Commission, Washington, DC 20555-0001.

(2) By hand delivery to the NRC's offices at 11555 Rockville Pike, Rockville, Maryland.

(3) Where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

(b) The Commission has delegated to the four Regional Administrators licensing authority for selected parts of its decentralized licensing program for nuclear materials as described in paragraph (b)(1) of this section. Any communication, report, or application covered under this licensing program must be submitted to the appropriate Regional Administrator. The administrators' jurisdictions and mailing addresses are listed in paragraph (b)(2) of this section.

* * * * *

(2) * * *

(i) * * * All mailed or hand-delivered inquiries, communications, and applications for a new license or an amendment or renewal of an existing license specified in paragraph (b)(1) of this section must use the following address: U.S. Nuclear Regulatory Commission, Region I, 475 Allendale Road, King of Prussia, Pennsylvania 19406; Where e-mail is appropriate it should be addressed to RidsRgn1MailCenter@nrc.gov.

(ii) * * * All mailed or hand-delivered inquiries, communications, and applications for a new license or an amendment or renewal of an existing license specified in paragraph (b)(1) of this section must use the following address: U.S. Nuclear Regulatory Commission, Region II Material Licensing/Inspection Branch, Atlanta Federal Center, 61 Forsyth Street, SW, Suite 23T85, Atlanta, Georgia 30303; Where e-mail is appropriate it should be addressed to RidsRgn2MailCenter@nrc.gov.

(iii) * * * All mailed or hand-delivered inquiries, communications, and applications for a new license or an amendment or renewal of an existing license specified in paragraph (b)(1) of this section must use the following address: U.S. Nuclear Regulatory Commission, Region III, Material Licensing Section, 801 Warrenville Road, Lisle, Illinois 60532-4351; Where e-mail is appropriate it should be addressed to RidsRgn3MailCenter@nrc.gov.

(iv) * * * All mailed or hand-delivered inquiries, communications, and applications for a new license or an amendment or renewal of an existing license specified in paragraph (b)(1) of this section must use the following address: U.S. Nuclear Regulatory Commission, Region IV, Material Radiation Protection Section, 611 Ryan Plaza Drive, Suite 400, Arlington, Texas 76011; Where e-mail is appropriate it should be addressed to RidsRgn4MailCenter@nrc.gov.

60. In § 40.7, paragraph (e)(3) is revised to read as follows:

§ 40.7 Employee protection.

* * * * *

(e) * * *

(3) Copies of NRC Form 3 may be obtained by writing to the Regional Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

61. In § 40.23, the first sentence of paragraph (b)(1) is revised to read as follows:

§ 40.23 General license for carriers of transient shipments of natural uranium other than in the form of ore or ore residue.

* * * * *

(b)(1) Persons generally licensed under paragraph (a) of this section, who plan to carry a transient shipment with scheduled stops at a United States port, shall notify the Spent Fuel Project Office, Office of Nuclear Material Safety and Safeguards, using an appropriate method listed in § 40.5. * * *

* * * * *

62. In § 40.25, the first sentence of the introductory text of paragraph (c)(1) is revised to read as follows:

§ 40.25 General license for use of certain industrial products or devices.

* * * * *

(c) * * *

(1) Persons who receive, acquire, possess, or use depleted uranium pursuant to the general license established by paragraph (a) of this section shall file NRC Form 244, “Registration Certificate—Use of Depleted Uranium Under General License,” with the Director of the NRC's Division of Industrial and Medical Nuclear Safety, by an appropriate method listed in § 40.5, with a copy to the appropriate NRC Regional Administrator. * * *

* * * * *

63. In § 40.35, the first sentence of paragraph (e)(1) and the third sentence of paragraph (f) are revised to read as follows:

§ 40.35 Conditions of specific licenses issued pursuant to § 40.34.

* * * * *

(e)(1) Report to the Director of the Office of Nuclear Material Safety and Safeguards, by an appropriate method listed in § 40.5, all transfers of industrial products or devices to persons for use under the general license in § 40.25. * * *

* * * * *

(f) * * * The licensee shall furnish the change to the Director of the Office of Nuclear Material Safety and Safeguards, by an appropriate method listed in § 40.5, and to affected offsite response organizations, within six months after the change is made. * * *

64. In § 40.60, the third sentence of the introductory text of paragraph (c)(2) is revised to read as follows:

§ 40.60 Reporting requirements.

* * * * *

(c) * * *

(2) * * * These written reports must be sent to the NRC's Document Control Desk by an appropriate method listed in § 40.5, with a copy to the appropriate NRC regional office listed in Appendix D to Part 20 of this chapter. * * *

* * * * *

65. In § 40.64, the second sentence of paragraph (a), the last sentence of paragraph (b) and the second and third sentences of paragraph (c) are revised to read as follows:

§ 40.64 Reports.

(a) * * * Copies of the instructions may be obtained either by writing the U.S. Nuclear Regulatory Commission, Division of Fuel Cycle Safety and Safeguards, Washington, DC 20555-0001, by e-mail RidsNmssFcss@nrc.gov, or by calling (301) 415-7213. * * *

(b) * * * Copies of the reporting instructions may be obtained either by writing to the U.S. Nuclear Regulatory Commission, Division of Fuel Cycle Safety and Safeguards, Washington, DC 20555-0001, by e-mail RidsNmssFcss@nrc.gov, or by calling (301) 415-7213.

(c) * * * The initial report must be followed within a period of fifteen (15) days by a written report submitted to the appropriate NRC Regional Office, using an appropriate method listed in § 40.5, which report must set forth the details of the incident and its consequences. A copy of such written report must be sent to the Director of the Office of Nuclear Material Safety and Safeguards. * * *

* * * * *

66. In § 40.65, the first sentence of paragraph (a)(1) is revised to read as follows:

§ 40.65 Effluent monitoring reporting requirements.

(a) * * *

(1) Within 60 days after January 1, 1976 and July 1, 1976, and within 60 days after January 1 and July 1 of each year thereafter, submit a report to the Director of the Office of Nuclear Material Safety and Safeguards, using an appropriate method listed in § 40.5, with a copy to the appropriate NRC Regional Office shown in Appendix D to Part 20 of this chapter; which report must specify the quantity of each of the principal radionuclides released to unrestricted areas in liquid and in gaseous effluents during the previous six months of operation, and such other information as the Commission may require to estimate maximum potential annual radiation doses to the public resulting from effluent releases. * * *

* * * * *

67. In § 40.66, the first sentence of paragraph (a) is revised to read as follows:

§ 40.66 Requirements for advance notice of export shipments of natural uranium.

(a) Each licensee authorized to export natural uranium, other than in the form of ore or ore residue, in amounts exceeding 500 kilograms, shall notify the Spent Fuel Project Office, Office of Nuclear Material Safety and Safeguards, by an appropriate method listed in § 40.5. * * *

* * * * *

68. In § 40.67, the first sentence of paragraph (a) is revised to read as follows:

§ 40.67 Requirement for advance notice for importation of natural uranium from countries that are not party to the Convention on the Physical Protection of Nuclear Material.

(a) Each licensee authorized to import natural uranium, other than in the form of ore or ore residue, in amounts exceeding 500 kilograms, from countries not party to the Convention on the Physical Protection of Nuclear Material (see Appendix F to Part 73 of this chapter) shall notify the Spent Fuel Project Office, Office of Nuclear Material Safety and Safeguards, using an appropriate method listed in § 40.5. * * *

* * * * *

PART 50—DOMESTIC LICENSING OF PRODUCTION AND UTILIZATION FACILITIES

69. The authority citation for Part 50 is revised to read as follows:

Authority: Secs. 102, 103, 104, 105, 161, 182, 183, 186, 189, 68 Stat. 936, 937, 938, 948, 953, 954, 955, 956, as amended, sec. 234, 83 Stat. 444, as amended (42 U.S.C. 2132, 2133, 2134, 2135, 2201, 2232, 2233, 2236, 2239, 2282); secs. 201, as amended, 202, 206, 88 Stat. 1242, as amended, 1244, 1246 (42 U.S.C. 5841, 5842, 5846); sec. 1704, 112 Stat. 2750 (44 U.S.C. 3504 note).

Section 50.7 also issued under Pub. L. 95-601, sec. 10, 92 Stat. 2951 (42 U.S.C. 5851). Section 50.10 also issued under secs. 101, 185, 68 Stat. 955 as amended (42 U.S.C. 2131, 2235), sec. 102, Pub. L. 91-190, 83 Stat. 853 (42 U.S.C. 4332). Sections 50.13, 50.54(dd), and 50.103 also issued under sec. 108, 68 Stat. 939, as amended (42 U.S.C. 2138). Sections 50.23, 50.35, 50.55, and 50.56 also issued under sec. 185, 68 Stat. 955 (42 U.S.C. 2235). Sections 50.33a, 50.55a and appendix Q also issued under sec. 102, Pub. L. 91-190, 83 Stat. 853 (42 U.S.C. 4332). Sections 50.34 and 50.54 also issued under sec. 204, 88 Stat. 1245 (42 U.S.C. 5844). Sections 50.58, 50.91, and 50.92 also issued under Pub. L. 97-415, 96 Stat. 2073 (42 U.S.C. 2239). Section 50.78 also issued under sec. 122, 68 Stat. 939 (42 U.S.C. 2152). Sections 50.80-50.81 also issued under sec. 184, 68 Stat. 954, as amended (42 U.S.C. 2234). Appendix F also issued under sec. 187, 68 Stat. 955 (42 U.S.C 2237).

70. Section 50.4 is revised to read as follows:

§ 50.4 Written communications.

(a) General requirements. All correspondence, reports, applications, and other written communications from the applicant or licensee to the Nuclear Regulatory Commission concerning the regulations in this part or individual license conditions must be sent either by mail addressed: ATTN: Document Control Desk; U.S. Nuclear Regulatory Commission, Washington, DC 20555-0001; by hand delivery to the NRC's offices at 11555 Rockville Pike, Rockville, Maryland, between the hours of 8:15 a.m. and 4:00 p.m. eastern time; or, where practicable, by electronic submission, for example, via Electronic Information Exchange, e-mail, or CD-ROM. Detailed guidance on making electronic submissions can be obtained by visiting the NRC's Web site at http://www.nrc.gov/site-help/eie.html, by calling (301) 415-6030, by e-mail at EIE@nrc.gov, or by writing to the Applications Development Division, Office of the Chief Information Officer, U.S. Nuclear Regulatory Commission, Washington, DC 20555-0001. The guidance discusses, among other topics, the formats the NRC can accept, the use of electronic signatures, and the treatment of nonpublic information. If the communication is on paper, the signed original must be sent. If a submission due date falls on a Saturday, Sunday, or Federal holiday, the next Federal working day becomes the official due date.

(b) Distribution requirements. Copies of all correspondence, reports, and other written communications concerning the regulations in this part or individual license conditions must be submitted to the persons and, if on paper or CD-ROM, in the quantities set forth below (addresses for the NRC Regional Offices are listed in Appendix D to Part 20 of this chapter).

(1) Applications for amendment of permits and licenses; reports; and other communications. All written communications (including responses to: generic letters, bulletins, information notices, regulatory information summaries, inspection reports, and miscellaneous requests for additional information) that are required of holders of operating licenses or construction permits issued pursuant to this part, must be submitted as follows, except as otherwise specified in paragraphs (b)(2) through (b)(7) of this section: To the NRC's Document Control Desk (if on paper, the signed original), with a copy to the appropriate Regional Office, and a copy to the appropriate NRC Resident Inspector, if one has been assigned to the site of the facility.

(2) Applications for permits and licenses, and amendments to applications. Applications for construction permits, applications for operating licenses and amendments to either type of application must be submitted as follows, except as otherwise specified in paragraphs (b)(3) through (b)(7) in this section.

(i) Applications for licenses for facilities described in § 50.21 (a) and (c) and amendments to these applications must be sent to the NRC's Document Control Desk, with a copy to the appropriate Regional Office. If the application or amendment is on paper, the submission to the Document Control Desk must be the signed original.

(ii) Applications for permits and licenses for facilities described in § 50.21(b) or § 50.22, and amendments to these applications must be sent to the NRC's Document Control Desk, with a copy to the appropriate Regional Office, and a copy to the appropriate NRC Resident Inspector, if one has been assigned to the site of the facility. If the application or amendment is on paper or CD-ROM, the submission to the Document Control Desk must be 38 copies, one of which must be the signed original if the submission is on paper.

(3) Acceptance review application. Written communications required for an application for determination of suitability for docketing under § 50.30(a)(6) must be submitted to the NRC's Document Control Desk, with a copy to the appropriate Regional Office. If the communication is on paper or CD-ROM, the submission to the Document Control Desk must be 14 copies, one of which must be the signed original if the submission is on paper.

(4) Security plan and related submissions. Written communications, as defined in paragraphs (b)(4)(i) through (iv) of this section, must be submitted to the NRC's Document Control Desk, with a copy to the appropriate Regional Office. If the communication is on paper or CD-ROM, the submission to the Document Control Desk must be four copies, one of which must be the signed original if the submission is on paper.

(i) Physical security plan under § 50.34;

(ii) Safeguards contingency plan under § 50.34;

(iii) Change to security plan, guard training and qualification plan, or safeguards contingency plan made without prior Commission approval under § 50.54(p);

(iv) Application for amendment of physical security plan, guard training and qualification plan, or safeguards contingency plan under § 50.90.

(5) Emergency plan and related submissions. Written communications as defined in paragraphs (b)(5)(i) through (iii) of this section must be submitted to the NRC's Document Control Desk, with a copy to the appropriate Regional Office, and a copy to the appropriate NRC Resident Inspector if one has been assigned to the site of the facility. If the communication is on paper, the submission to the Document Control Desk must be the signed original.

(i) Emergency plan under § 50.34;

(ii) Change to an emergency plan under § 50.54(q);

(iii) Emergency implementing procedures under Appendix E.V of this part.

(6) Updated FSAR. An updated Final Safety Analysis Report (FSAR) or replacement pages, under § 50.71(e) must be submitted to the NRC's Document Control Desk, with a copy to the appropriate Regional Office, and a copy to the appropriate NRC Resident Inspector if one has been assigned to the site of the facility. Paper copy submissions may be made using replacement pages; however, if a licensee chooses to use electronic submission, all subsequent updates or submissions must be performed electronically on a total replacement basis. If the communication is on paper, the submission to the Document Control Desk must be 11 copies, one of which is signed. If the communications are submitted electronically, see Guidance for Electronic Submissions to the Commission.

(7) Quality assurance related submissions. (i) A change to the Safety Analysis Report quality assurance program description under § 50.54(a)(3) or § 50.55(f)(3), or a change to a licensee's NRC-accepted quality assurance topical report under § 50.54(a)(3) or § 50.55(f)(3), must be submitted to the NRC's Document Control Desk, with a copy to the appropriate Regional Office, and a copy to the appropriate NRC Resident Inspector if one has been assigned to the site of the facility. If the communication is on paper, the submission to the Document Control Desk must be the signed original.

(ii) A change to an NRC-accepted quality assurance topical report from nonlicensees (i.e., architect/engineers, NSSS suppliers, fuel suppliers, constructors, etc.) must be submitted to the NRC's Document Control Desk. If the communication is on paper, the signed original must be sent.

(8) Certification of permanent cessation of operations. The licensee's certification of permanent cessation of operations, under § 50.82(a)(1), must state the date on which operations have ceased or will cease, and must be submitted to the NRC's Document Control Desk. This submission must be under oath or affirmation.

(9) Certification of permanent fuel removal. The licensee's certification of permanent fuel removal, under § 50.82(a)(1), must state the date on which the fuel was removed from the reactor vessel and the disposition of the fuel, and must be submitted to the NRC's Document Control Desk. This submission must be under oath or affirmation.

(c) Form of communications. All paper copies submitted to meet the requirements set forth in paragraph (b) of this section must be typewritten, printed or otherwise reproduced in permanent form on unglazed paper. Exceptions to these requirements imposed on paper submissions may be granted for the submission of micrographic, photographic, or similar forms.

(d) Regulation governing submission. Licensees and applicants submitting correspondence, reports, and other written communications under the regulations of this part are requested but not required to cite whenever practical, in the upper right corner of the first page of the submission, the specific regulation or other basis requiring submission.

(e) Conflicting requirements. The communications requirements contained in this section and §§ 50.12, 50.30, 50.36, 50.36a. 50.44, 50.49, 50.54, 50.55, 50.55a, 50.59, 50.62, 50.71, 50.73, 50.82, 50.90, and 50.91 supersede and replace all existing requirements in any license conditions or technical specifications in effect on January 5, 1987. Exceptions to these requirements must be approved by the Records Management Branch, Office of the Chief Information Officer, Nuclear Regulatory Commission, Washington, DC 20555-0001, telephone (301) 415-7233, e-mail INFOCOLLECTS@nrc.gov.

71. In § 50.7, paragraph (e)(2) is revised to read as follows:

§ 50.7 Employee protection.

* * * * *

(e) * * *

(2) Copies of NRC Form 3 may be obtained by writing to the Regional Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

72. In § 50.30, paragraph (a)(2) is revised to read as follows:

§ 50.30 Filing of application for licenses; oath or affirmation.

(a) * * *

(2) The applicant shall maintain the capability to generate additional copies of the general information and the safety analysis report, or part thereof or amendment thereto, for subsequent distribution in accordance with the written instructions of the Director, Office of Nuclear Reactor Regulation, or the Director, Office of Nuclear Material Safety and Safeguards, as appropriate.

* * * * *

73. In § 50.54, the second sentence of paragraph (s)(1) is revised to read as follows:

§ 50.54 Conditions of licenses.

* * * * *

(s)(1) * * * These plans (10 copies if on paper or CD-ROM) must be forwarded to the Director of Nuclear Reactor Regulation with a copy (3 copies if on paper or CD-ROM) to the Administrator of the appropriate NRC regional office. * * *

* * * * *

74. In § 50.55, paragraph (e)(6)(ii) is revised to read as follows:

§ 50.55 Conditions of construction permits.

* * * * *

(e) * * *

(6) * * *

(ii) Written notification submitted to the Document Control Desk, U.S. Nuclear Regulatory Commission, by an appropriate method listed in § 50.4, with a copy to the appropriate Regional Administrator at the address specified in Appendix D to Part 20 of this chapter and a copy to the appropriate NRC resident inspector within 30 days following receipt of information by the director or responsible corporate officer under paragraph (e)(1)(iii) of this section, on the identification of a defect or failure to comply.

* * * * *

75. In § 50.74, the introductory text is revised to read as follows:

§ 50.74 Notification of change in operator or senior operator status.

Each licensee shall notify the appropriate Regional Administrator as listed in Appendix D to Part 20 of this chapter within 30 days of the following in regard to a licensed operator or senior operator:

* * * * *

PART 51—ENVIRONMENTAL PROTECTION REGULATIONS FOR DOMESTIC LICENSING AND RELATED REGULATORY FUNCTIONS

76. The authority citation for Part 51 is revised to read as follows:

Authority: Sec. 161, 68 Stat. 948, as amended, sec. 1701, 106 Stat. 2951, 2952, 2953, (42 U.S.C. 2201, 2297f); secs. 201, as amended, 202, 88 Stat. 1242, as amended, 1244 (42 U.S.C. 5841, 5842); sec. 1704, 112 Stat. 2750 (44 U.S.C. 3504 note). Subpart A also issued under National Environmental Policy Act of 1969, secs. 102, 104, 105, 83 Stat. 853-854, as amended (42 U.S.C. 4332, 4334, 4335); and Pub. L. 95-604, Title II, 92 Stat. 3033-3041; and sec. 193, Pub. L. 101-575, 104 Stat. 2835 (42 U.S.C. 2243). Sections 51.20, 51.30, 51.60, 51.80. and 51.97 also issued under secs. 135, 141, Pub. L. 97-425, 96 Stat. 2232, 2241, and sec. 148, Pub. L. 100-203, 101 Stat. 1330-223 (42 U.S.C. 10155, 10161, 10168). Section 51.22 also issued under sec. 274, 73 Stat. 688, as amended by 92 Stat. 3036-3038 (42 U.S.C. 2021) and under Nuclear Waste Policy Act of 1982, sec 121, 96 Stat. 2228 (42 U.S.C. 10141). Sections 51.43, 51.67, and 51.109 also under Nuclear Waste Policy Act of 1982, sec 114(f), 96 Stat. 2216, as amended (42 U.S.C. 10134(f)).

77. In § 51.40, paragraph (c) is revised to read as follows:

§ 51.40 Consultation with NRC Staff.

* * * * *

(c) Questions concerning environmental matters should be addressed to the following NRC staff offices as appropriate:

(1) Utilization facilities, including rulemaking: Director, Office of Nuclear Reactor Regulation, U.S. Nuclear Regulatory Commission, Washington, DC 20555-0001, telephone (301) 415-1270, e-mail RidsNrrOd@nrc.gov.

(2) Production facilities, including rulemaking: Director, Office of Nuclear Material Safety and Safeguards, U.S. Nuclear Regulatory Commission, Washington, DC 20555-0001, telephone (301) 415-7800, e-mail RidsNmssOd@nrc.gov.

(3) Materials licenses, including rulemaking: Director, Office of Nuclear Material Safety and Safeguards, U.S. Nuclear Regulatory Commission, Washington, DC 20555-0001, telephone (301) 415-7800, e-mail RidsNmssOd@nrc.gov.

(4) Research: Director, Office of Nuclear Regulatory Research, U.S. Nuclear Regulatory Commission, Washington, DC 20555-0001, telephone (301) 415-6641, e-mail RidsResOd@nrc.gov.

78. Section 51.55 is revised to read as follows:

§ 51.55 Environmental report—number of copies; distribution.

(a) Each applicant for a license to construct and operate a production or utilization facility covered by paragraphs (b)(1), (b)(2), (b)(3), or (b)(4) of § 51.20, each applicant for renewal of an operating license for a nuclear power plant, each applicant for a license amendment authorizing the decommissioning of a production or utilization facility covered by § 51.20, and each applicant for a license or license amendment to store spent fuel at a nuclear power plant after expiration of the operating license for the nuclear power plant shall submit 41 copies to the Director of the Office of Nuclear Reactor Regulation, or 5 copies to the Director of the Office of Nuclear Material Safety and Safeguards, as appropriate, of an environmental report or any supplement to an environmental report. These reports must be sent either by mail addressed: ATTN: Document Control Desk; U.S. Nuclear Regulatory Commission, Washington, DC 20555-0001; by hand delivery to the NRC's offices at 11555 Rockville Pike, Rockville, Maryland, between the hours of 8:15 a.m. and 4 p.m. eastern time; or, where practicable, by electronic submission, for example, via Electronic Information Exchange, or CD-ROM. Detailed guidance on making electronic submissions can be obtained by visiting the NRC's Web site at http://www.nrc.gov/site-help/eie.html, by calling (301) 415-6030, by e-mail at EIE@nrc.gov, or by writing to the Applications Development Division, Office of the Chief Information Officer, U.S. Nuclear Regulatory Commission, Washington, DC 20555-0001. The guidance discusses, among other topics, the formats the NRC can accept, the use of electronic signatures, and the treatment of nonpublic information. If the communication is on paper, the signed original must be sent. If a submission due date falls on a Saturday, Sunday, or Federal holiday, the next Federal working day becomes the official due date. The applicant shall maintain the capability to generate additional copies of the environmental report or any supplement to the environmental report for subsequent distribution to parties and Boards in the NRC proceedings; Federal, State, and local officials; and any affected Indian tribes, in accordance with written instructions issued by the Director of the Office of Nuclear Reactor Regulation or the Director of the Office of Nuclear Material Safety and Safeguards, as appropriate.

(b) Each applicant for a license to manufacture a nuclear power reactor, or for an amendment to a license to manufacture, seeking approval of the final design of the nuclear power reactor, pursuant to Appendix M to part 52 of this chapter shall submit to the Commission an environmental report or any supplement to an environmental report in the manner specified in § 50.4. The applicant shall maintain the capability to generate additional copies of the environmental report or any supplement to the environmental report for subsequent distribution to parties and Boards in the NRC proceeding; Federal, State, and local officials; and any affected Indian tribes, in accordance with written instructions issued by the Director of Nuclear Reactor Regulation.

79. Section 51.66 is revised to read as follows:

§ 51.66 Environmental report—number of copies; distribution.

(a) Each applicant for a license or other form of permission, or an amendment to or renewal of a license or other form of permission issued pursuant to Parts 30, 32, 33, 34, 35, 36, 39, 40, 61, 70 and/or 72 of this chapter, and covered by paragraphs (b)(1) through (6) of § 51.60; or by § 51.61 or § 51.62 shall submit to the Director of Nuclear Material Safety and Safeguards an environmental report or any supplement to an environmental report in the number of copies specified in the manner specified in § 51.55(a). The applicant shall maintain the capability to generate additional copies of the environmental report or any supplement to the environmental report for subsequent distribution to Federal, State, and local officials and any affected Indian tribes in accordance with written instructions issued by the Director of Nuclear Material Safety and Safeguards.

(b)

Environmental Report
Type of licensing action | Number of copies to be submitted with application
Licensing actions requiring environmental impact statements pursuant to 51.20(b) | 5
Licensing actions requiring environmental assessments pursuant to 51.21 | 5

80. Section 51.121 is revised to read as follows:

§ 51.121 Status of NEPA actions.

Individuals or organizations desiring information on the NRC's NEPA process or on the status of specific NEPA actions should address inquiries to:

(a) Utilization facilities, including rulemaking: Director, Office of Nuclear Reactor Regulation, U.S. Nuclear Regulatory Commission, Washington, DC 20555-0001, telephone (301) 415-1270, e-mail RidsNrrOd@nrc.gov.

(b) Production facilities, including rulemaking: Director, Office of Nuclear Material Safety and Safeguards, U.S. Nuclear Regulatory Commission, Washington, DC 20555-0001, telephone (301) 415-7800, e-mail RidsNmssOd@nrc.gov.

(c) Materials licenses, including rulemaking: Director, Office of Nuclear Material Safety and Safeguards, U.S. Nuclear Regulatory Commission, Washington, DC 20555-0001, telephone (301) 415-7800, e-mail RidsNmssOd@nrc.gov.

(d) Research: Director, Office of Nuclear Regulatory Research, U.S. Nuclear Regulatory Commission, Washington, DC 20555-0001, telephone (301) 415-6641, e-mail RidsResOd@nrc.gov.

81. In § 51.123, the first sentence of paragraph (a) and the first sentence of paragraph (b) are revised to read as follows:

§ 51.123 Charges for environmental documents; distribution to public; distribution to governmental agencies.

(a) Distribution to public. Upon written request to the Publishing Services Branch, Office of the Chief Information Officer, U.S. Nuclear Regulatory Commission, Washington, DC 20555-0001, e-mail DISTRIBUTION@nrc.gov, and to the extent available, single copies of draft environmental impact statements and draft findings of no significant impact will be made available to interested persons without charge. * * *

(b) Distribution to governmental agencies. Upon written request to the Publishing Services Branch, Office of the Chief Information Officer, U.S. Nuclear Regulatory Commission, Washington, DC 20555-0001, e-mail DISTRIBUTION@nrc.gov, and to the extent available, copies of draft and final environmental impact statements and draft final findings of no significant impact will be made available in the number requested to Federal, State and local agencies, Indian Tribes, and State, regional, and metropolitan clearinghouses. * * *

* * * * *

PART 52—EARLY SITE PERMITS; STANDARD DESIGN CERTIFICATIONS; AND COMBINED LICENSES FOR NUCLEAR POWER PLANTS

82. The authority citation for Part 52 is revised to read as follows:

Authority: Secs. 103, 104, 161, 182, 183, 186, 189, 68 Stat. 936, 948, 953, 954, 955, 956, as amended, sec. 234, 83 Stat. 444, as amended (42 U.S.C. 2133, 2201, 2232, 2233, 2236, 2239, 2282); secs. 201, 202, 206, 88 Stat. 1242, 1244, 1246, as amended (42 U.S.C. 5841, 5842, 5846); sec. 1704, 112 Stat. 2750 (44 U.S.C. 3504 note).

83. In Appendix A to part 52, Section III.A is revised to read as follows:

Appendix A to Part 52—Design Certification Rule for the U.S. Advanced Boiling Water Reactor

* * * * *

III. Scope and Contents

A. Tier 1, Tier 2, and the generic technical specifications in the U.S. ABWR Design Control Document, GE Nuclear Energy, Revision 4 dated March 1997, are approved for incorporation by reference by the Director of the Office of the Federal Register in accordance with 5 U.S.C. 552(a) and 1 CFR Part 51. Copies of the generic DCD may be obtained from the National Technical Information Service, 5285 Port Royal Road, Springfield, VA 22161, Web site at http://www.ntis.gov. A copy is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov, and the Office of the Federal Register, 800 North Capitol Street, NW., Suite 700, Washington, DC, e-mail fedreg.info@nara.gov.

* * * * *

84. In Appendix B to Part 52, section III.A is revised to read as follows:

Appendix B to Part 52—Design Certification Rule for the System 80+ Design

* * * * *

III. Scope and Contents

A. Tier 1, Tier 2, and the generic technical specifications in the System 80+ Design Control Document, ABB-CE, with revisions dated January 1997, are approved for incorporation by reference by the Director of the Office of the Federal Register in accordance with 5 U.S.C. 552(a) and 1 CFR Part 51. Copies of the generic DCD may be obtained from the National Technical Information Service, 5285 Port Royal Road, Springfield, VA 22161, Web site at http://www.ntis.gov. A copy is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov, and the Office of the Federal Register, 800 North Capitol Street, NW., Suite 700, Washington, DC, e-mail fedreg.info@nara.gov.

85. In Appendix C to Part 52, the third and fourth sentences of section III.A are revised to read as follows:

Appendix C to Part 52—Design Certification Rule for the AP600 Design

* * * * *

III. Scope and Contents

A. * * * A copy of the generic DCD is available for examination and copying at the NRC Public Document Room, 11555 Rockville Pike, Rockville, Maryland, telephone (301) 415-4737, e-mail pdr@nrc.gov. Copies are also available for examination at the NRC Library, 11545 Rockville Pike, Rockville, Maryland, telephone (301) 415-5610, e-mail LIBRARY@nrc.gov; and the Office of the Federal Register, 800 North Capitol Street, NW., Suite 700, Washington, DC, e-mail fedreg.info@nara.gov.

* * * * *

PART 55—OPERATORS' LICENSES

86. The authority citation for Part 55 is revised to read as follows:

Authority: Secs. 107, 161, 182, 68 Stat. 939, 948, 953, as amended, sec. 234, 83 Stat. 444, as amended (42 U.S.C. 2137, 2201, 2232, 2282); secs. 201, as amended, 202, 88 Stat. 1242, as amended, 1244 (42 U.S.C. 5841, 5842); sec. 1704, 112 Stat. 2750 (44 U.S.C. 3504 note).

Sections 55.41, 55.43, 55.45, and 55.59 also issued under sec. 306, Pub. L. 97-425, 96 Stat. 2262 (42 U.S.C. 10226). Section 55.61 also issued under secs. 186, 187, 68 Stat. 955 (42 U.S.C. 2236, 2237).

87. In § 55.5, paragraphs (a)(2), (b)(2), and (b)(3) are revised, and paragraph (a)(3) is added, to read as follows:

§ 55.5 Communications.

(a) * * *

(1) * * *

(2) By delivery in person to the NRC's offices at 11555 Rockville Pike, Rockville, Maryland, or

(3) Where practicable, by electronic submission, for example, via Electronic Information Exchange, or CD-ROM. Detailed guidance on making electronic submissions can be obtained by visiting the NRC's Web site at http://www.nrc.gov/site-help/eie.html, by calling (301) 415-6030, by e-mail to EIE@nrc.gov or by writing to the Applications Development Division, Office of the Chief Information Officer, U.S. Nuclear Regulatory Commission, Washington, DC 20555-0001. The guidance discusses, among other topics, the formats the NRC can accept, the use of electronic signatures, and the treatment of nonpublic information.

(b) * * *

(2) Any application for a license or license renewal filed under the regulations in this part involving a nuclear power reactor licensed under 10 CFR Part 50 and any related inquiry, communication, information, or report must be submitted to the Regional Administrator by an appropriate method listed in paragraph (a) of this section. The Regional Administrator or the Administrator's designee will transmit to the Director of Nuclear Reactor Regulation any matter that is not within the scope of the Regional Administrator's delegated authority.

(i) If the nuclear power reactor is located in Region I, submissions must be made to the Regional Administrator of Region I. Submissions by mail or hand delivery must be addressed to the Administrator at U.S. Nuclear Regulatory Commission, 475 Allendale Road, King of Prussia, Pennsylvania 19406; Where e-mail is appropriate it should be addressed to RidsRgn1MailCenter@nrc.gov.

(ii) If the nuclear power reactor is located in Region II, submissions must be made to the Regional Administrator of Region II. Submissions by mail or hand delivery must be addressed to the Administrator at U.S. Nuclear Regulatory Commission, Atlanta Federal Center, Suite 23T85, 61 Forsyth Street, SW, Atlanta, GA 30303; Where e-mail is appropriate it should be addressed to RidsRgn2MailCenter@nrc.gov.

(iii) If the nuclear power reactor is located in Region III, submissions must be made to the Regional Administrator of Region III. Submissions by mail or hand delivery must be addressed to the Administrator at U.S. Nuclear Regulatory Commission, 801 Warrenville Road, Lisle, IL 60532-4351; Where e-mail is appropriate it should be addressed to RidsRgn3MailCenter@nrc.gov.

(iv) If the nuclear power reactor is located in Region IV, submissions must be made to the Regional Administrator of Region IV. Submissions by mail or hand delivery must be addressed to the Administrator at U.S. Nuclear Regulatory Commission, 611 Ryan Plaza Drive, Suite 1000, Arlington, Texas 76011; Where e-mail is appropriate it should be addressed to RidsRgn4MailCenter@nrc.gov.

(3)(i) Any application for a license or license renewal filed under the regulations in this part involving a test and research reactor facility licensed under 10 CFR Part 50 and any related inquiry, communication, information, or report must be submitted to the Office of Nuclear Reactor Regulation, Division of Regulatory Improvement Programs at the NRC's headquarters, by an appropriate method listed in paragraph (a) of this section.

(ii) For all test and research reactor facilities located in the NRC's

Regions, submissions must be made to the Office of Nuclear Reactor Regulation, Director of the Division of Regulatory Improvement Programs at the NRC's headquarters, by an appropriate method listed in paragraph (a) of this section.

88. In § 55.23, the introductory text is revised to read as follows:

§ 55.23 Certification.

To certify the medical fitness of the applicant, an authorized representative of the facility licensee shall complete and sign NRC Form 396, “Certification of Medical Examination by Facility Licensee,” which can be obtained by writing the Publishing Services Branch, Office of the Chief Information Officer, U.S. Nuclear Regulatory Commission, Washington, DC 20555-0001, by calling the Branch at (301) 415-5877, or by visiting the NRC's Web site at http://www.nrc.gov and selecting forms from the index found on the home page.

* * * * *

89-90. In § 55.31, paragraph (a)(1) is revised to read as follows:

§ 55.31 How to apply.

(a) * * *

(1) Complete NRC Form 398, “Personal Qualification Statement—Licensee,” which can be obtained by writing the Publishing Services Branch, Office of the Chief Information Officer, U.S. Nuclear Regulatory Commission, Washington, DC 20555-0001, by calling the Branch at (301) 415-5877, or by visiting the NRC's Web site at http://www.nrc.gov and selecting forms from the index found on the home page.

* * * * *

PART 60—DISPOSAL OF HIGH-LEVEL RADIOACTIVE WASTES IN GEOLOGIC REPOSITORIES

91. The authority citation for Part 60 is revised to read as follows:

Authority: Secs. 51, 53, 62, 63, 65, 81, 161, 182, 183, 68 Stat. 929, 930, 932, 933, 935, 948, 953, 954, as amended (42 U.S.C. 2071, 2073, 2092, 2093, 2095, 2111, 2201, 2232, 2233); secs. 202, 206, 88 Stat. 1244, 1246 (42 U.S.C. 5842, 5846); secs. 10 and 14, Pub. L. 95-601, 92 Stat. 2951 (42 U.S.C. 2021a and 5851); sec. 102, Pub. L. 91-190, 83 Stat. 853 (42 U.S.C. 4332); secs. 114, 121, Pub. L. 97-425, 96 Stat. 2213g, 2228, as amended (42 U.S.C. 10134, 10141), and Pub. L. 102-486, sec. 2902, 106 Stat. 3123 (42 U.S.C. 5851); sec. 1704, 112 Stat. 2750 (44 U.S.C. 3504 note).

92. In § 60.4, paragraph (a) is revised to read as follows:

§ 60.4 Communications and records.

(a) Except where otherwise specified, all communications and reports concerning the regulations in this part and applications filed under them should be sent by mail addressed: ATTN: Document Control Desk: Director, Office of Nuclear Material Safety and Safeguards; U.S. Nuclear Regulatory Commission; Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

* * * * *

93. In § 60.9, paragraph (e)(2) is revised to read as follows:

§ 60.9 Employee protection.

* * * * *

(e) * * *

(2) Copies of NRC Form 3 may be obtained by writing to the Regional Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

94. In § 60.22, paragraphs (a) and (b) are revised to read as follows:

§ 60.22 Filing and distribution of application.

(a) An application for a license to receive and possess source, special nuclear, or byproduct material at a geologic repository operations area at a site which has been characterized, and any amendments thereto, and an accompanying environmental impact statement and any supplements, must be signed by the Secretary of Energy or the Secretary's authorized representative and must be filed with the Director, in triplicate if the document is submitted in paper form or on CD-ROM.

(b) If submitted in paper form or on CD-ROM, each portion of such application and any amendments, and each environmental impact statement and any supplements, shall be accompanied by 30 additional copies. DOE shall maintain the capability to generate additional copies for distribution in accordance with written instructions from the Director or the Director's designee.

* * * * *

95. In § 60.44, the fifth sentence of paragraph (b) is revised to read as follows:

§ 60.44 Changes, tests, and experiments.

* * * * *

(b) * * * The DOE shall furnish the report to the appropriate NRC Regional Office shown in Appendix D to Part 20 of this chapter, by an appropriate method listed in § 60.4(a), with a copy to the Director of the NRC's Office of Nuclear Material Safety and Safeguards. * * *

* * * * *

PART 61—LICENSING REQUIREMENTS FOR LAND DISPOSAL OF RADIOACTIVE WASTE

96. The authority citation for Part 61 is revised to read as follows:

Authority: Secs. 53, 57, 62, 63, 65, 81, 161, 182, 183, 68 Stat. 930, 932, 933, 935, 948, 953, 954, as amended (42 U.S.C. 2073, 2077, 2092, 2093, 2095, 2111, 2201, 2232, 2233); secs. 202, 206, 88 Stat. 1244, 1246, (42 U.S.C. 5842, 5846); secs. 10 and 14, Pub. L. 95-601, 92 Stat. 2951 (42 U.S.C. 2021a and 5851) and Pub. L. 102-486, sec. 2902, 106 Stat. 3123, (42 U.S.C. 5851); sec. 1704, 112 Stat. 2750 (44 U.S.C. 3504 note).

97. Section 61.4 is revised to read as follows:

§ 61.4 Communications.

Except where otherwise specified, all communications and reports concerning the regulations in this part and applications filed under them should be sent by mail addressed: ATTN: Document Control Desk; Director, Office of Nuclear Material Safety and Safeguards, U.S. Nuclear Regulatory Commission, Washington, DC 20555-0001; by hand delivery to the NRC's Offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

98. In § 61.9, paragraph (e)(2) is revised to read as follows:

§ 61.9 Employee protection.

* * * * *

(e) * * *

(2) Copies of NRC Form 3 can be obtained by writing to the Regional Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

99. In § 61.20, paragraphs (a) and (b) are revised to read as follows:

§ 61.20 Filing and distribution of application.

(a) An application for a license under this part, and any amendments thereto, must be filed with the Director, must be signed by the applicant or the applicant's authorized representative under oath or affirmation, and, if the document is in paper form or on CD-ROM, must consist of three copies, one of which is the signed original if the document is on paper.

(b) If the document is on paper or CD-ROM, the applicant shall maintain the capability to generate additional copies of the application for distribution in accordance with written instructions from the Director or the Director's designee.

* * * * *

100. In § 61.80, the first sentence of paragraph (i)(1) is revised to read as follows:

§ 61.80 Maintenance of records, reports, and transfers.

* * * * *

(i)(1) Each licensee authorized to dispose of waste materials received from other persons under this part shall submit annual reports to the Director of the Division of Waste Management in the NRC's Office of Nuclear Material Safety and Safeguards, by an appropriate method listed in § 60.4, with a copy to the appropriate NRC Regional Office shown in Appendix D to Part 20 of this chapter. * * *

* * * * *

PART 62—CRITERIA AND PROCEDURES FOR EMERGENCY ACCESS TO NON-FEDERAL AND REGIONAL LOW-LEVEL WASTE DISPOSAL FACILITIES

101. The authority citation for Part 62 is revised to read as follows:

Authority: Secs. 81, 161, as amended, 68 Stat. 935, 948, 949, 950, 951, as amended (42 U.S.C. 2111, 2201); secs. 201, 209, as amended, 88 Stat. 1242, 1248, as amended (42 U.S.C. 5841, 5849); secs. 3, 4, 5, 6, 99 Stat. 1843, 1844, 1845, 1846, 1847, 1848, 1849, 1850, 1851, 1852, 1853, 1854, 1855, 1856, 1857 (42 U.S.C. 2021c, 2021d, 2021e, 2021f); sec. 1704, 112 Stat. 2750 (44 U.S.C. 3504 note).

102. Section 62.3 is revised to read as follows:

§ 62.3 Communications.

Except where otherwise specified, all communications and reports concerning the regulations in this part and applications filed under them should be sent by mail addressed: ATTN: Document Control Desk, Director, Office of Nuclear Material Safety and Safeguards, U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

PART 63—DISPOSAL OF HIGH-LEVEL RADIOACTIVE WASTES IN A GEOLOGIC REPOSITORY AT YUCCA MOUNTAIN, NEVADA

103. The authority citation for Part 63 is revised to read as follows:

Authority: Secs. 51, 53, 62, 63, 65, 81, 161, 182, 183, 68 Stat. 929, 930, 932, 933, 935, 948, 953, 954, as amended (42 U.S.C. 2071, 2073, 2092, 2093, 2095, 2111, 2201, 2232, 2233); secs. 202, 206, 88 Stat.1244, 1246 (42 U.S.C. 5842, 5846); secs. 10 and 14, Pub. L. 95-601, 92 Stat. 2951 (42 U.S.C. 2021a and 5851); sec. 102, Pub. L. 91-190, 83 Stat. 853 (42 U.S.C. 4332); secs. 114, 121, Pub. L. 97-425, 96 Stat. 2213g, 2238, as amended (42 U.S.C. 10134, 10141), and Pub. L. 102-486, sec. 2902, 106 Stat. 3123 (42 U.S.C. 5851); sec. 1704, 112 Stat. 2750 (44 U.S.C. 3504 note).

104. In § 63.2, the definition of Publicly Available Record System (PARS) Library is added to read as follows:

§ 63.2 Definitions

* * * * *

The Publicly Available Records System (PARS) Library is the electronic library generated by the NRC's Agencywide Documents Access and Management System (ADAMS) to provide access to public documents. PARS has full text documents which can be searched using specific fields and parameters. The public can search, download, print, create reports, and order documents online. The PARS Library contains publicly available documents created or received by NRC since November 1, 1999, as well as some older documents that the NRC has retrofit into the collection. PARS is accessible from the NRC Web site at http://www.nrc.gov/reading-rm.html.

* * * * *

105. In § 63.4, paragraph (a) is revised to read as follows:

§ 63.4 Communications and records.

(a) Except as otherwise specified, in this part or in Subpart J of Part 2 of this chapter, all communications and reports concerning the regulations in this part and applications filed under them should be sent to the NRC by mail addressed to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

* * * * *

106. In § 63.9, paragraph (e)(2) is revised to read as follows:

§ 63.9 Employee protection.

(e) * * *

(2) Copies of NRC Form 3 may be obtained by writing to the Regional Administrator of the appropriate U.S. Nuclear Regulatory Commission Regional Office listed in Appendix D to Part 20 of this chapter, from the Publishing Services Branch at (301) 415-5877, via e-mail to forms@nrc.gov, or by accessing the NRC Website at http://www.nrc.gov and selecting forms from the index found on the home page.

* * * * *

107. In § 63.16, paragraph (f) is revised to read as follows:

§ 63.16 Review of site characterization activities.

* * * * *

(f) The NRC shall place all correspondence between DOE and NRC resulting from the requirements of this section, including the reports described in paragraph (b) of this section, in the Publicly Available Records System (PARS) Library.

* * * * *

108. In § 63.22, paragraph (b) is revised to read as follows:

§ 63.22 Filing and distribution of application.

* * * * *

(b) DOE shall submit 30 additional copies of each portion of the application and any amendments, and each environmental impact statement and any supplements. DOE shall maintain the capability to generate additional copies for distribution in accordance with written instructions from the Director or the Director's designee.

* * * * *

109. In § 63.44, paragraph (c)(2) is revised to read as follows:

§ 63.44 Changes, tests, and experiments.

* * * * *

(c) * * *

(2) No less frequently than every 24 months, DOE shall prepare a report containing a brief description of such changes, tests, and experiments, including a summary of the evaluation of each. These written reports must be sent to the NRC using an appropriate method listed in § 63.4; and DOE shall furnish the report to the appropriate NRC Regional Office shown in Appendix D to Part 20 of this chapter, with a copy to the Director, Office of Nuclear Material Safety and Safeguards, U.S. Nuclear Regulatory Commission, Washington, DC 20555. Any report submitted under this paragraph must be made a part of the public record of the licensing proceedings.

* * * * *

110. In § 63.61, paragraph (c) is revised to read as follows:

§ 63.61 Provision of information.

* * * * *

(c) The NRC shall place communications by the Director under this section in the Publicly Available Records System (PARS) Library and furnish copies to DOE.

111. In § 63.63, paragraph (f) is revised to read as follows:

§ 63.63 Participation in license reviews.

* * * * *

(f) The NRC shall place all proposals submitted under this section, and responses to them, in the Publicly Available Records System (PARS) Library.

112. In § 63.73, paragraph (d) is revised to read as follows:

§ 63.73 Reports of deficiencies.

* * * * *

(d) The requisite notification must be as specified in the applicable regulation. A copy of the written report must be sent to the NRC Operations Center, Document Control Desk, U.S. NRC, to the Director of Nuclear Material Safety and Safeguards, U.S. Nuclear Regulatory Commission, and to the NRC onsite representative using an appropriate method listed in § 63.4 of this chapter.

113. In § 63.144, paragraph (b)(1) is revised to read as follows:

§ 63.144 Quality assurance program change.

* * * * *

(b) * * *

(1) The signed document must be submitted to the Nuclear Regulatory Commission, Document Control Desk, Washington, DC 20555, one copy to the Director, Office of Nuclear Material and Safeguards, U. S. Nuclear Regulatory Commission, Washington, DC 20555, and one copy to the appropriate NRC Resident Inspector, if one has been assigned to the site or facility, using an appropriate method listed in § 63.4 of this chapter.

* * * * *

PART 70—DOMESTIC LICENSING OF SPECIAL NUCLEAR MATERIAL

114. The authority citation for Part 70 is revised to read as follows:

Authority: Secs. 51, 53, 161, 182, 183, 68 Stat. 929, 930, 948, 953, 954, as amended, sec. 234, 83 Stat. 444, as amended (42 U.S.C. 2071, 2073, 2201, 2232, 2233, 2282, 2297f); secs. 201, as amended, 202, 204, 206, 88 Stat. 1242, as amended, 1244, 1245, 1246 (42 U.S.C. 5841, 5842, 5845, 5846). Sec. 193, 104 Stat. 2835, as amended by Pub. L. 104-134, 110 Stat. 1321, 1321-349 (42 U.S.C. 2243); sec. 1704, 112 Stat. 2750 (44 U.S.C. 3504 note).

Sections 70.1(c) and 70.20a(b) also issued under secs. 135, 141, Pub. L. 97-425, 96 Stat. 2232, 2241 (42 U.S.C. 10155, 10161). Section 70.7 also issued under Pub. L. 95-601, sec. 10, 92 Stat. 2951 (42 U.S.C. 5851). Section 70.21(g) also issued under sec. 122, 68 Stat. 939 (42 U.S.C. 2152). Section 70.31 also issued under sec. 57d, Pub. L. 93-377, 88 Stat. 475 (42 U.S.C. 2077). Sections 70.36 and 70.44 also issued under sec. 184, 68 Stat. 954, as amended (42 U.S.C. 2234). Section 70.81 also issued under secs. 186, 187, 68 Stat. 955 (42 U.S.C. 2236, 2237). Section 70.82 also issued under sec. 108, 68 Stat. 939, as amended (42 U.S.C. 2138).

115. In § 70.5, paragraphs (a)(1) and (a)(2), the introductory text of paragraph (b), and the last sentences of paragraphs (b)(2)(i), (b)(2)(ii), (b)(2)(iii), and (b)(2)(iv) are revised and paragraph (a)(3) is added, to read as follows:

§ 70.5 Communications.

(a) * * *

(1) By mail addressed to: ATTN: Document Control Desk, Director, Office of Nuclear Material Safety and Safeguards, U.S. Nuclear Regulatory Commission, Washington, DC 20555-0001.

(2) By hand delivery to the NRC's offices at 11555 Rockville Pike, Rockville, Maryland.

(3) Where practicable, by electronic submission, for example, via Electronic Information Exchange, and CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

(b) The Commission has delegated to the four Regional Administrators licensing authority for selected parts of its decentralized licensing program for nuclear materials as described in paragraph (b)(1) of this section. Any communication, report, or application covered under this licensing program must be submitted to the appropriate Regional Administrator. The Administrators' jurisdictions and mailing addresses are listed in paragraph (b)(2) of this section.

* * * * *

(2) * * *

(i) * * * All mailed or hand-delivered inquiries, communications, and applications for a new license or an amendment or renewal of an existing license specified in paragraph (b)(1) of this section must use the following address: U.S. Nuclear Regulatory Commission, Region I, Nuclear Material Section B, 475 Allendale Road, King of Prussia, Pennsylvania 19406; Where e-mail is appropriate it should be addressed to RidsRgn1MailCenter@nrc.gov.

(ii) * * * All mailed or hand-delivered inquiries, communications, and applications for a new license or an amendment or renewal of an existing license specified in paragraph (b)(1) of this section must use the following address: U.S. Nuclear Regulatory Commission, Region II, Material Licensing/Inspection Branch, Atlanta Federal Center, 61 Forsyth Street, SW., Suite 23T85, Atlanta, GA 30303; Where e-mail is appropriate it should be addressed to RidsRgn2MailCenter@nrc.gov.

(iii) * * * All mailed or hand-delivered inquiries, communications, and applications for a new license or an amendment or renewal of an existing license specified in paragraph (b)(1) of this section must use the following address: U.S. Nuclear Regulatory Commission, Region III, Material Licensing Section, 801 Warrenville Road, Lisle, Illinois 60532-4351; Where e-mail is appropriate it should be addressed to RidsRgn3MailCenter@nrc.gov.

(iv) * * * All mailed or hand-delivered inquiries, communications, and applications for a new license or an amendment or renewal of an existing license specified in paragraph (b)(1) of this section must use the following address: U.S. Nuclear Regulatory Commission, Region IV, Material Radiation Protection Section, 611 Ryan Plaza Drive, Suite 400, Arlington, Texas 76011; Where e-mail is appropriate it should be addressed to RidsRgn4MailCenter@nrc.gov.

116. In § 70.7, paragraph (e)(3) is revised to read as follows:

§ 70.7 Employee protection.

* * * * *

(e) * * *

(3) Copies of NRC Form 3 may be obtained by writing to the Regional Administrator of the appropriate U.S. Nuclear Regulatory Commission Regional Office listed in Appendix D to Part 20 of this chapter, from the Publishing Services Branch at (301) 415-5877, via e-mail to forms@nrc.gov, or by accessing the NRC Website at http://www.nrc.gov and selecting forms from the index found on the home page.

* * * * *

117. In § 70.20b, paragraphs (f)(1), (f)(2)(ii), (f)(2)(iii), and (g)(1) are revised to read as follows:

§ 70.20b General license for carriers of transient shipments of formula quantities of strategic special nuclear material, special nuclear material of moderate strategic significance, special nuclear material of low strategic significance, and irradiated reactor fuel.

* * * * *

(f)(1) Persons generally licensed under this section, who plan to carry transient shipments with scheduled stops at United States ports, shall notify in writing the Spent Fuel Project Office, Office of Nuclear Material Safety and Safeguards, using an appropriate method listed in § 70.5(a).

(2) * * *

(ii) The Spent Fuel Project Office, Office of Nuclear Material Safety and Safeguards, has been notified by telephone at (301) 415-8524, at least 10 days before transport of the shipment commences at the shipping facility, that a written advance shipping notice has been sent to the Office; and

(iii) The Spent Fuel Project Office will be notified by telephone at (301) 415-8524 of any changes to the shipment itinerary.

* * * * *

(g) * * *

(1) Provide to the Spent Fuel Project Office, Office of Nuclear Material Safety and Safeguards, the information required under paragraph (f) of this section.

* * * * *

118. In § 70.21, paragraphs (a)(1) and (a)(2) are revised to read as follows:

§ 70.21 Filing.

(a)(1) A person may apply for a license to possess and use special nuclear material in a plutonium processing or fuel fabrication plant, or for a uranium enrichment facility license by filing the application with the Director of the NRC's Office of Nuclear Material Safety and Safeguards in accordance with the instructions in § 70.5(a). If the application is on paper or CD-ROM, one copy must be provided. If the application is submitted electronically, see guidance for electronic submissions to the Commission.

(2) A person may apply for any other license issued under this part, by filing the application in accordance with the instructions in § 70.5(a). If the application is on paper, one copy must be provided. If the application is submitted electronically, see guidance for electronic submissions to the Commission.

* * * * *

119. In § 70.32, the second sentence of the introductory text of paragraph (c)(2), the last sentences of paragraphs (d), (e), and (g), and the third sentence of paragraph (i), are revised to read as follows:

§ 70.32 Conditions of licenses.

* * * * *

(c) * * *

(2) * * * Licensees located in all four Regions as indicated in Appendix A to Part 73 of this chapter shall furnish the Director of the NRC's Office of Nuclear Material Safety and Safeguards, using an appropriate method listed in § 70.5(a), a report containing a description of each change within:

* * * * *

(d) * * * Within two months after each change, a report containing a description of the change must be furnished to the Director of the NRC's Office of Nuclear Material Safety and Safeguards, using an appropriate method listed in § 70.5(a); and a copy must be sent to the appropriate NRC Regional Office shown in Appendix A to Part 73 of this chapter.

(e) * * * The licensee shall maintain records of changes to the plan made without prior Commission approval, for three years from the effective date of the change, and shall, within two months after the change is made, furnish a report containing a description of each change to the Director of the NRC's Office of Nuclear Material Safety and Safeguards; the report may be sent using an appropriate method listed in § 70.5(a), and a copy of the report must be sent to the appropriate NRC Regional Office shown in Appendix A to Part 73 of this chapter.

* * * * *

(g) * * * The licensee shall maintain each change to the plan made without prior approval as a record during the period for which possession of a formula quantity of special nuclear material is authorized under a license and retain the superseded portion for 3 years after the effective date of the change, and shall, within 60 days after the change is made, furnish a report containing a description of each change to the Director of Nuclear Material Safety and Safeguards; the report may be sent using an appropriate method listed in § 70.5(a), and a copy of the report must be sent to the Regional Administrator of the appropriate NRC Regional Office as specified in Appendix A to Part 73 of this chapter.

* * * * *

(i) * * * Within six months after each change is made, the licensee shall, using an appropriate method listed in § 70.5(a), furnish the Director of the NRC's Office of Nuclear Material Safety and Safeguards a copy of each change, with copies to the appropriate NRC Regional Office specified in Appendix D to Part 20 of this chapter and to affected offsite response organizations. * * *

* * * * *

120. In § 70.50, the third sentence of the introductory text of paragraph (c)(2) is revised to read as follows:

§ 70.50 Reporting Requirements.

* * * * *

(c) * * *

(2) * * * These written reports must be sent to the NRC's Document Control Desk, using an appropriate method listed in § 70.5(a), with a copy to the appropriate NRC regional office listed in Appendix D to Part 20 of this chapter. * * *

* * * * *

121. Section 70.59 is revised to read as follows:

§ 70.59 Effluent monitoring reporting requirements.

Within 60 days after January 1 and July 1 of each year, and using an appropriate method listed in § 70.5(a), each licensee authorized to possess and use special nuclear material for processing and fuel fabrication, scrap recovery, conversion of uranium hexafluoride, or in a uranium enrichment facility shall submit a report addressed: Attn: Document Control Desk, Director, Office of Nuclear Material Safety and Safeguards, U.S. Nuclear Regulatory Commission, Washington, DC 20555-0001, with a copy to the appropriate NRC Regional Office shown in Appendix D to Part 20 of this chapter. The report must specify the quantity of each of the principal radionuclides released to unrestricted areas in liquid and gaseous effluents during the previous six months of operation, and such other information as the Commission may require to estimate maximum potential annual radiation doses to the public resulting from effluent releases. If quantities of radioactive materials released during the reporting periods are significantly above the licensee's design objectives previously reviewed as part of the licensing action, the report must cover this specifically. On the basis of these reports and any additional information the Commission may obtain from the licensee or others, the Commission may from time to time require the licensee to take such action as the Commission deems appropriate.

PART 71—PACKAGING AND TRANSPORTATION OF RADIOACTIVE MATERIAL

122. The authority citation for Part 71 is revised to read as follows:

Authority: Secs. 53, 57, 62, 63, 81, 161, 182, 183, 68 Stat. 930, 932, 933, 935, 948, 953, 954, as amended, sec. 1701, 106 Stat. 2951, 2952, 2953 (42 U.S.C. 2073, 2077, 2092, 2093, 2111, 2201, 2232, 2233, 2297f); secs. 201, as amended, 202, 206, 88 Stat. 1242, as amended, 1244, 1246 (42 U.S.C. 5841, 5842, 5846); sec. 1704, 112 Stat. 2750 (44 U.S.C. 3504 note).

Section 71.97 also issued under sec. 301, Pub. L. 96-295, 94 Stat. 789-790.

123. In § 71.1, paragraph (a) is revised to read as follows:

§ 71.1 Communications and records.

(a) Except where otherwise specified, all communications and reports concerning the regulations in this part and applications filed under them should be sent by mail addressed: Attn: Document Control Desk, Director, Office of Nuclear Material Safety and Safeguards, U.S. Nuclear Regulatory Commission, Washington, DC 20555-0001, by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

* * * * *

124. In § 71.12, paragraph (c)(3) is revised to read as follows:

§ 71.12 General license: NRC-approved package.

* * * * *

(c) * * *

(3) Before the licensee's first use of the package, submits in writing to the Director of the NRC's Office of Nuclear Material Safety and Safeguards, using an appropriate method listed in § 71.1(a), the licensee's name and license number and the package identification number specified in the package approval.

* * * * *

125. In § 71.95, the introductory text is revised to read as follows:

§ 71.95 Reports.

Using an appropriate method listed in § 71.1(a), the licensee shall report to the Director of the NRC's Office of Nuclear Material Safety and Safeguards within 30 days—

* * * * *

126. In § 71.97, the introductory text of paragraph (c)(3) is revised to read as follows:

§ 71.97 Advance notification of shipment of irradiated reactor fuel and nuclear waste.

* * * * *

(c) * * *

(3) A notification delivered by any other means than mail must reach the office of the governor or of the governor's designee at least 4 days before the beginning of the 7-day period during which departure of the shipment is estimated to occur.

* * * * *

127. In § 71.101, the last sentence of paragraph (c) is revised to read as follows:

§ 71.101 Quality assurance requirements.

* * * * *

(c) * * * Using an appropriate method listed in § 71.1(a), each licensee shall file a description of its quality assurance program, including a discussion of which requirements of this subpart are applicable and how they will be satisfied, with the Director of the NRC's Office of Nuclear Material Safety and Safeguards.

* * * * *

PART 72—LICENSING REQUIREMENTS FOR THE INDEPENDENT STORAGE OF SPENT NUCLEAR FUEL AND HIGH-LEVEL RADIOACTIVE WASTE

128. The authority citation for Part 72 is revised to read as follows:

Authority: Secs. 51, 53, 57, 62, 63, 65, 69, 81, 161, 182, 183, 184, 186, 187, 189, 68 Stat. 929, 930, 932, 933, 934, 935, 948, 953, 954, 955, as amended; sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended; 202, 206, 88 Stat. 1242, as amended; 1244, 1246 (42 U.S.C. 5841, 5842, 5846); Pub. L. 95-601, sec. 10, 92 Stat. 2951 as amended by Pub. L. 102-486, sec. 7902, 106 Stat. 3123 (42 U.S.C. 5851); sec. 102, Pub. L. 91-190, 83 Stat. 853 (42 U.S.C. 4332); secs. 131, 132, 133, 135, 137, 141, Pub. L. 97-425, 96 Stat. 2229, 2230, 2232, 2241; sec. 148, Pub. L. 100-203, 101 Stat. 1330-235 (42 U.S.C. 10151, 10152, 10153, 10155, 10157, 10161, 10168); sec. 1704, 112 Stat. 2750 (44 U.S.C. 3504 note).

Section 72.44(g) also issued under secs. 142(b) and 148(c), (d), Pub. L. 100-203, 101 Stat. 1330-232, 1330-236 (42 U.S.C. 10162(b), 10168(c), (d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2224 (42 U.S.C. 10101, 10137(a), 10161(h)). Subparts K and L are also issued under sec. 133, 98 Stat. 2230 (42 U.S.C. 10153) and sec. 218(a), 96 Stat. 2252 (42 U.S.C. 10198).

129. Section 72.4 is revised to read as follows.

§ 72.4 Communications.

Except where otherwise specified, all communications and reports concerning the regulations in this part and applications filed under them should be sent by mail addressed: Attn: Document Control Desk, Director, Office of Nuclear Material Safety and Safeguards, U.S. Nuclear Regulatory Commission, Washington, DC 20555-0001; by hand delivery to the NRC's offices at One White Flint North, 11555 Rockville Pike, Rockville, Maryland between 7:30 a.m. and 4:15 p.m. eastern time; or, where practicable, by electronic submission, for example, via Electronic Information Exchange, or CD-ROM Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. If the submission deadline date falls on a Saturday, or Sunday, or a Federal holiday, the next Federal working day becomes the official due date.

130. In § 72.10, paragraph (e)(2) is revised to read as follows:

§ 72.10 Employee protection.

* * * * *

(e) * * *

(2) Copies of NRC Form 3 may be obtained by writing to the Regional

Administrator of the appropriate U.S. Nuclear Regulatory Commission Regional Office listed in Appendix D to Part 20 of this chapter, by calling the Publishing Services Branch at (301) 415-5877, via e-mail to forms@nrc.gov, or by visiting the NRC's Web site at http://www.nrc.gov and selecting forms from the index found on the home page.

* * * * *

131. In § 72.16, paragraphs (a) and (c) are revised to read as follows:

§ 72.16 Filing of application for specific license.

(a) Place of filing. Each application for a license, or amendment thereof, under this part should be filed in accordance with § 72.4.

* * * * *

(c) Number of copies of application on paper or CD-ROM. Each filing of an application on paper or CD-ROM for a license or license amendment under this part (including amendments to such applications) must include 16 copies of each portion of the application, safety analysis report, environmental report, and any amendments. If the application is on paper, one of the copies must be the signed original. The applicant shall maintain the capability to generate additional copies for distribution in accordance with instruction from the Director or the Director's designee.

* * * * *

132. In § 72.44, the third sentence of paragraph (f) is revised to read as follows:

§ 72.44 License conditions.

* * * * *

(f) * * * Within six months after any change is made, the licensee shall submit, in accordance with § 72.4, a report containing a description of any changes made in the plan addressed to: Attn: Document Control Desk, Director, Office of Nuclear Material Safety and Safeguards, U.S. Nuclear Regulatory Commission; Washington, DC 20555-0001; with a copy to the appropriate NRC Regional Office shown in Appendix D to Part 20 of this chapter. * * *

* * * * *

133. In § 72.70, paragraphs (c)(1), (c)(2), and (c)(3) are revised to read as follows:

§ 72.70 Safety analysis report updating.

* * * * *

(c)(1) The update of the FSAR must be filed in accordance with § 72.4. If the update is filed on paper, it should be filed on a replacement-page basis; if filed electronically, it should be filed on a full replacement basis. See Guidance for Electronic Submissions to the Commission at http://www.nrc.gov/site-help/eie.html.

(2) A paper update filed on a replacement-page basis must include a list that identifies the current pages of the FSAR following page replacement;

(3) Each changed page must include both a change indicator for the area changed, for example a bold line vertically drawn in the margin adjacent to the portion actually changed, and a page change identification (date of change or change number or both);

* * * * *

134. In § 72.76, the second sentence of paragraph (a) is revised to read as follows:

§ 72.76 Material status reports.

(a) * * * Copies of these instructions may be obtained either by writing the U.S. Nuclear Regulatory Commission, Division of Fuel Cycle Safety and Safeguards, Washington, DC 20555-0001, or by e-mail RidsNmssFcss@nrc.gov, or by calling at (301) 415-7213 * * *

* * * * *

135. In § 72.78, the second sentence of paragraph (a) is revised to read as follows:

§ 72.78 Nuclear material transfer reports.

(a) * * * Copies of these instructions may be obtained either by writing the U.S. Nuclear Regulatory Commission, Division of Fuel Cycle Safety and Safeguards, Washington, DC 20555-0001, or by e-mail RidsNmssFcss@nrc.gov, or by calling at (301) 415-7213. * * *

* * * * *

136. In § 72.186, the second sentence of paragraph (b) is revised to read as follows:

§ 72.186 Change to physical security and safeguards contingency plans.

* * * * *

(b) * * * The licensee shall maintain records of changes to any such plan made without prior approval for a period of three years from the date of the change, and shall, within two months after the change is made, submit a report addressed to: Attn: Document Control Desk; Director, Office of Nuclear Material Safety and Safeguards, U.S. Nuclear Regulatory Commission, Washington DC 20555-0001, in accordance with § 72.4, containing a description of each change. A copy of the report must be sent to the Regional Administrator of the appropriate NRC Regional Office specified in Appendix A to Part 73 of this chapter.

137. In § 72.248, paragraphs (c)(1), (c)(2), and (c)(3) are revised to read as follows:

§ 72.248 Safety analysis report updating.

* * * * *

(c)(1) The update of the FSAR must be filed in accordance with § 72.4. If the update is filed on paper, then it should be filed on a replacement-page basis; if filed electronically, it should be filed on a full replacement basis. See Guidance for Electronic Submissions to the Commission at http://www.nrc.gov/site-help/eie.html.

(2) A paper update filed on a replacement-page basis must include a list that identifies the current pages of the FSAR following page replacement;

(3) Each changed page must include both a change indicator for the area changed, for example a bold line vertically drawn in the margin adjacent to the portion actually changed, and a page change identification (date of change or change number or both);

* * * * *

PART 73—PHYSICAL PROTECTION OF PLANTS AND MATERIALS

138. The authority citation for Part 73 is revised to read as follows:

Authority: Secs. 53, 161, 68 Stat. 930, 948, as amended, sec. 147, 94 Stat. 780 (42 U.S.C. 2073, 2167, 2201); sec. 201, as amended, 204, 88 Stat. 1242, as amended, 1245, sec. 1701, 106 Stat. 2951, 2952, 2953 (42 U.S.C. 5841, 5844, 2297f); sec. 1704, 112 Stat. 2750 (44 U.S.C. 3504 note).

Section 73.1 also issued under secs. 135, 141, Pub. L. 97-425, 96 Stat. 2232, 2241 (42 U.S.C. 10155, 10161). Section 73.37(f) also issued under sec. 301, Pub. L. 96-295, 94 Stat. 789 (42 U.S.C. 5841 note). Section 73.57 is issued under sec. 606, Pub. L. 99-399, 100 Stat. 876 (42 U.S.C. 2169).

139. Section 73.4 is revised to read as follows:

§ 73.4 Communications.

Except where otherwise specified, all communications and reports concerning the regulations in this part and applications filed under them should be sent by mail addressed to: Attn: Document Control Desk, Director, Office of Nuclear Reactor Regulation (or Director, Office of Nuclear Material Safety and Safeguards, as appropriate), U.S Nuclear Regulatory Commission, Washington, DC 20555-0001; by hand delivery to the NRC's offices at 11555 Rockville Pike, Rockville, Maryland; or, where practicable, by electronic submission, for example, Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

140. In § 73.57, paragraph (a)(2), the first and second sentences of paragraph (d)(1), the second and fourth sentences of paragraph (d)(2), the second and third sentences of paragraph (d)(3), and paragraphs (d)(4) and (f)(5) are revised to read as follows:

§ 73.57 Requirements for criminal history checks of individuals granted unescorted access to a nuclear power facility or access to Safeguards Information by power reactor licensees.

(a) * * *

(2) Each applicant for a license to operate a nuclear power reactor under Part 50 of this chapter shall submit fingerprints for those individuals who have or will have access to Safeguards Information.

* * * * *

(d) * * *

(1) For the purpose of complying with this section, licensees shall, using an appropriate method listed in § 73.4, submit to the NRC's Division of Facilities and Security, Mail Stop T-6E46, two completed, legible standard fingerprint cards (Form FD-258, ORIMDNRCOOOZ) or, where practicable, other fingerprint record for each individual requiring unescorted access to the nuclear power facility or access to Safeguards Information, to the Director of the NRC's Division of Facilities and Security, marked for the attention of the Division's Criminal History Check Section. Copies of these forms may be obtained by writing to the Publishing Services Branch, Office of the Chief Information Officer, U.S. Nuclear Regulatory Commission, Washington DC 20555-0001, by calling the branch at (301) 415-5877, or by e-mail to forms@nrc.gov. Guidance on what alternative formats might be practicable is referenced in § 73.4. * * *

(2) * * * Any Form FD-258 or other fingerprint record containing omissions or evident errors will be returned to the licensee for corrections. * * * The one free resubmission must have the initial (rejected) fingerprint cards or other records attached. * * *

(3) * * * Licensees shall submit payment with the application for the processing of fingerprints through corporate check, certified check, cashier's check, money order, or electronic payment, made payable to “U.S. NRC” (for guidance on making electronic payments, contact the Personnel Security Branch, Division of Facilities and Security, at (301) 415-7404). The amount of the fee is the user fee for processing fingerprints submitted by the Nuclear Regulatory Commission on behalf of nuclear power plants charged by the FBI for each fingerprint card or other fingerprint record. * * *

(4) The Commission will forward to the submitting licensee all data received from the FBI as a result of the licensee's application(s) for criminal history checks, to include the FBI fingerprint record.

* * * * *

(f) * * *

(5) The licensee shall retain all fingerprint and criminal history records received from the FBI, or a copy if the individual's file has been transferred, on an individual (including data indicating no record) for 1 year after termination or denial of unescorted access to the nuclear power facility or access to Safeguards Information.

141. In § 73.71, the first sentence of paragraph (a)(4) is revised to read as follows:

§ 73.71 Reporting of safeguards events.

(a) * * *

(4) The initial telephonic notification must be followed within a period of 30 days by a written report submitted to the NRC by an appropriate method listed in § 73.4. * * *

* * * * *

142. In § 73.72, paragraphs (a)(1), (a)(4), and (a)(5) are revised to read as follows:

§ 73.72 Requirement for advance notice of shipment of formula quantities of strategic special nuclear material, special nuclear material of moderate strategic significance, or irradiated reactor fuel.

(a) * * *

(1) Notify in writing the Spent Fuel Project Office, Office of Nuclear Material Safety and Safeguards, using any appropriate method listed in § 73.4;

* * * * *

(4) Notify the Spent Fuel Project Office, Office of Nuclear Material Safety and Safeguards, by telephone at (301) 415-8524 at least 10 days before the shipment commences at the shipping facility that an advance notice has been sent; and

(5) Notify the Spent Fuel Project Office, Office of Nuclear Material Safety and Safeguards, by telephone at (301) 415-8524 of any changes to the shipment itinerary.

* * * * *

143. In § 73.73, paragraphs (a)(1) and (b) are revised to read as follows:

§ 73.73 Requirement for advance notice and protection of export shipments of special nuclear material of low strategic significance.

(a) * * *

(1) Notify in writing the Spent Fuel Project Office, Office of Nuclear Material Safety and Safeguards, using any appropriate method listed in § 73.4;

* * * * *

(b) A licensee who needs to amend a written advance notification required by paragraph (a) of this section may do so by telephoning the Spent Fuel Project Office, Office of Nuclear Material Safety and Safeguards, at (301) 415-8524.

144. In § 73.74, paragraphs (a)(1) and (b) are revised to read as follows:

§ 74.74 Requirement for advance notice and protection of import shipments of nuclear material from countries that are not party to the Convention on the Physical Protection of Nuclear Material.

(a) * * *

(1) Notify in writing the Spent Fuel Project Office, Office of Nuclear Material Safety and Safeguards, using any appropriate method listed in § 73.4;

* * * * *

(b) A licensee who needs to amend a written advance notification required by paragraph (a) of this section may do so by telephoning the Spent Fuel Project Office, Office of Nuclear Material Safety and Safeguards, at (301) 415-8524.

* * * * *

145. Appendix A to Part 73 is revised to read as follows:

Appendix A to Part 73—U.S. Nuclear Regulatory Commission Regional Offices
| Address | Telephone (24 hour) | E-mail
Region I: Connecticut, Delaware, District of Columbia, Maine, Maryland, Massachusetts, New Hampshire, New Jersey, New York, Pennsylvania, Rhode Island, and Vermont | USNRC, Region I, 475 Allendale Road, King of Prussia, PA 19406 | (610) 337-5000 (FTS) 346-5000 | RidsRegion1MailCenter@nrc.gov
Region II: Alabama, Florida, Georgia, Kentucky, Mississippi, North Carolina, Puerto Rico, South Carolina, Tennessee, Virginia, Virgin Islands, and West Virginia | USNRC, Region II, Atlanta Federal Center, 61 Forsyth Street, SW., Suite 23T85, Atlanta, GA 30303 | (404) 562-4400 (FTS) 346-5000 | RidsRegion2MailCenter@nrc.gov
Region III: Illinois, Indiana, Iowa, Michigan, Minnesota, Missouri, Ohio and Wisconsin | USNRC, Region III, 801 Warrenville Road, Lisle, IL 60532 | (708) 829-9500 (FTS) 829-9500 | RidsRegion3MailCenter@nrc.gov
Region IV: Alaska, Arizona, Arkansas, California, Colorado, Hawaii, Idaho, Kansas, Louisiana, Montana, Nebraska, Nevada, New Mexico, North Dakota, Oklahoma, Oregon, South Dakota, Texas, Utah, Washington, Wyoming, and the U.S. territories and possessions in the Pacific | USNRC, Region IV, 611 Ryan Plaza Drive, Suite 400, Arlington, TX 76011 | (817) 860-8100 (FTS) 728-8100 | RidsRegion4MailCenter@nrc.gov

PART 74—MATERIAL CONTROL AND ACCOUNTING OF SPECIAL NUCLEAR MATERIAL

146. The authority citation for Part 74 is revised to read as follows:

Authority: Secs. 53, 57, 161, 182, 183, 68 Stat. 930, 932, 948, 953, 954, as amended, sec. 234, 83 Stat. 444, as amended, sec. 1701, 106 Stat. 2951, 2952, 2953 (42 U.S.C. 2073, 2077, 2201, 2232, 2233, 2282, 2297f); secs. 201, as amended, 202, 206, 88 Stat. 1242, as amended, 1244, 1246 (42 U.S.C. 5841, 5842, 5846); sec. 1704, 112 Stat. 2750 (44 U.S.C. 3504 note).

147. In § 74.6, paragraphs (a) and (b) are revised and paragraph (c) is added to read as follows:

§ 74.6 Communications.

* * * * *

(a) By mail addressed to: Attn: Document Control Desk, Director of Nuclear Material Safety and Safeguards, U.S. Nuclear Regulatory Commission, Washington, DC 20555-0001.

(b) By hand delivery to the NRC's offices at 11555 Rockville Pike, Rockville, Maryland.

(c) Where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

148. In § 74.15, the third sentence in paragraph (a) is revised to read as follows:

§ 74.15 Nuclear material transfer reports.

(a) * * * Copies of these instructions (NUREG/BR-0006 and NMMSS Report D-24 “Personal Computer Data Input for NRC Licensees”) may be obtained either by writing the U.S. Nuclear Regulatory Commission, Division of Fuel Cycle Safety and Safeguards, Washington, DC 20555-0001, by e-mail RidsNmssFcss@nrc.gov, or by calling (301) 415-7213. * * *

* * * * *

149. In § 74.17, the last sentences of paragraphs (a) and (b) are revised to read as follows:

§ 74.17 Special nuclear material physical inventory summary report.

(a) * * * Using an appropriate method listed in § 74.6, the licensee shall report the inventory results by plant and total facility to the Director of the NRC's Office of Nuclear Material Safety and Safeguards.

(b) * * * Using an appropriate method listed in § 74.6, the licensee shall report the inventory results by plant and total facility to the Director of the NRC's Office of Nuclear Material Safety and Safeguards.

* * * * *

150. In § 74.57, the first sentence of the introductory text of paragraph (c) and paragraph (f)(2) are revised to read as follows:

§ 74.57 Alarm resolution.

* * * * *

(c) Each licensee shall notify the NRC Operations Center by telephone on (301) 816-5100 of any MC&A alarm that remains unresolved beyond the time period specified for its resolution in the licensee's fundamental nuclear material control plan. * * *

* * * * *

(f) * * *

(2) Within 24 hours, the licensee shall notify the NRC Operations Center by telephone on (301) 816-5100 that an MC&A alarm resolution procedure has been initiated.

151. In § 74.59, paragraph (f)(1)(iii) is revised to read as follows:

§ 74.59 Quality assurance and accounting requirements.

* * * * *

(f) * * *

(1) * * *

(iii) Investigate and report, by an appropriate method listed in § 74.6, to the Director, Office of Nuclear Material Safety and Safeguards, any difference that exceeds three times the standard deviation determined from the sequential analysis;

* * * * *

PART 75—SAFEGUARDS ON NUCLEAR MATERIAL—IMPLEMENTATION OF US/IAEA AGREEMENT

152. The authority citation for Part 75 is revised to read as follows:

Authority: Secs. 53, 63, 103, 104, 122, 161, 68 Stat. 930, 932, 936, 937, 939, 948, as amended (42 U.S.C. 2073, 2093, 2133, 2134, 2152, 2201); sec. 201, 88 Stat. 1242, as amended (42 U.S.C. 5841); sec. 1704, 112 Stat. 2750 (44 U.S.C. 3504 note).

Section 75.4 also issued under secs. 135, 141, Pub. L. 97-425, 96 Stat. 2232, 2241 (42 U.S.C. 10155, 10161).

153. In § 75.6, paragraph (c) is revised to read as follows:

§ 75.6 Maintenance of records and delivery of information, reports, and other communications.

* * * * *

(c) Except where otherwise specified, all communications and reports concerning the regulations in this part and applications filed under them should be sent by mail addressed: Attn: Document Control Desk; Director, Office of Nuclear Reactor Regulation (or Director, Nuclear Materials Safety and Safeguards, as appropriate), U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

* * * * *

PART 76—CERTIFICATION OF GASEOUS DIFFUSION PLANTS

154. The authority citation for Part 76 is revised to read as follows:

Authority: Sec. 161, 68 Stat. 948, as amended, secs. 1312, 1701, as amended, 106 Stat. 2932, 2951, 2952, 2953, 110 Stat. 1321-349 (42 U.S.C. 2201, 2297b-11, 2297f); secs. 201, as amended, 204, 206, 88 Stat. 1244, 1245, 1246 (42 U.S.C. 5841, 5842, 5845, 5846). Sec. 234(a), 83 Stat. 444, as amended by Pub. L. 104-134, 110 Stat. 1321, 1321-349 (42 U.S.C. 2243(a)); sec. 1704, 112 Stat. 2750 (44 U.S.C. 3504 note).

Section 76.7 also issued under Pub. L. 95-601. sec. 10, 92 Stat 2951 (42 U.S.C. 5851). Section 76.22 is also issued under sec.193(f), as amended, 104 Stat. 2835, as amended by Pub. L. 104-134, 110 Stat. 1321, 1321-349 (42 U.S.C. 2243(f)). Section 76.35(j) also issued under sec. 122, 68 Stat. 939 (42 U.S.C. 2152).

155. Section 76.5 is revised to read as follows:

§ 76.5 Communications.

Except where otherwise specified, all communications and reports concerning the regulations in this part and applications filed under them should be sent by mail addressed to: Attn: Document Control Desk, Director, Office of Nuclear Material Safety and Safeguards, U.S. Nuclear Regulatory Commission, Washington, DC 20555-0001; by hand-delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. Copies of the communications should be sent to the NRC Region III Office (shown in Appendix D to Part 20 of this chapter) and to the appropriate Resident Inspector.

156. In § 76.7, paragraph (e)(3) is revised to read as follows:

§ 76.7 Employee protection.

* * * * *

(e) * * *

(3) Copies of NRC Form 3 may be obtained by writing to the NRC Region III Office listed in Appendix D to Part 20 of this chapter, from the Publishing Services Branch at (301) 415-5877, via e-mail to forms@nrc.gov, or by accessing the NRC Website at http://www.nrc.gov and selecting forms from the index found on the home page.

* * * * *

157. In § 76.33, paragraph (a)(1) is revised to read as follows:

§ 76.33 Application procedures.

(a) * * *

(1) An application for a certificate of compliance must be tendered by filing the application with the Director of the NRC's Office of Nuclear Material Safety and Safeguards, with copies sent to the NRC Region III Office and appropriate resident inspector, in accordance with § 76.5. If the application is on paper or CD-ROM, 20 copies must be filed with the Director. If submitted electronically, see Guidance for Electronic Submission to the Commission at http://www.nrc.gov/site-help/eie.html.

* * * * *

158. In § 76.120, the third sentence of the introductory text of paragraph (d)(2) is revised to read as follows:

§ 76.120 Reporting requirements.

* * * * *

(d) * * *

(2) * * * These written reports must be sent to the NRC by an appropriate method listed in § 76.5. * * *

* * * * *

PART 81—STANDARD SPECIFICATIONS FOR THE GRANTING OF PATENT LICENSES

159. The authority citation for Part 81 is revised to read as follows:

Authority: Sec. 156, 161, 68 Stat. 947, 948, as amended (42 U.S.C. 2186, 2201); sec. 201, 88 Stat. 1242, as amended (42 U.S.C. 5841); sec. 1704, 112 Stat. 2750 (44 U.S.C. 3504 note).

160. Section 81.3 is revised to read as follows:

§ 81.3 Communications.

All communications concerning the regulations in this part, including applications for licenses, should be sent to the NRC either by mail addressed to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

PART 95—FACILITY SECURITY CLEARANCE AND SAFEGUARDING OF NATIONAL SECURITY INFORMATION AND RESTRICTED DATA

161. The authority citation for Part 95 is revised to read as follows:

Authority: Secs. 145, 161, 193, 68 Stat. 942, 948, as amended (42 U.S.C. 2165, 2201); sec. 201, 88 Stat. 1242, as amended (42 U.S.C. 5841); sec. 1704, 112 Stat. 2750 (44 U.S.C. 3504 note); E.O. 10865, as amended, 3 CFR 1959-1963 Comp., p. 398 (50 U.S.C. 401, note); E.O. 12829, 3 CFR, 1993 Comp., p. 570; E.O. 12958, as amended, 3 CFR, 1995 Comp., p. 333; E.O. 12968, 3 CFR, 1995 Comp., p. 391.

162. Section 95.9 is revised to read as follows:

§ 95.9 Communications.

Except where otherwise specified, all communications and reports concerning the regulations in this part should be addressed to the Director of the NRC's Division of Facilities and Security, Mail Stop T-7D57, and sent either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

163. In § 95.19, the second sentence of the introductory text of paragraph (a) is revised to read as follows:

§ 95.19 Changes to security practices and procedures.

(a) * * * A written description of the proposed change must be furnished to the CSA and the NRC Regional Administrator of the cognizant Regional Office listed in Appendix A to Part 73 of this chapter, and, if the NRC is not the CSA, also to the Director of the Division of Facilities and Security in the NRC's Office of Administration; the communications to NRC personnel should be by an appropriate method listed in § 95.9. * * *

* * * * *

164. In § 95.45, the second sentence of paragraph (a) is revised to read as follows:

§ 95.45 Changes in classification.

(a) * * * Requests for downgrading or declassifying any NRC classified information should be forwarded to the NRC's Division of Facilities and Security, in the Office of Administration, using an appropriate method listed in § 95.9. * * *

* * * * *

PART 100—REACTOR SITE CRITERIA

165. The authority citation for Part 100 is revised to read as follows:

Authority: Secs. 103, 104, 161, 182, 68 Stat. 936, 937, 948, 953, as amended (42 U.S.C. 2133, 2134, 2201, 2232); sec. 201, as amended, 202, 88 Stat. 1242, as amended, 1244 (42 U.S.C. 5841, 5842); sec. 1704, 112 Stat. 2750 (44 U.S.C. 3504 note).

166. Section 100.4 is revised to read as follows:

§ 100.4 Communications.

Except where otherwise specified, all communications and reports concerning the regulations in this part and applications filed under them should be sent by mail addressed to: Attn: Document Control Desk, Director, Office of Nuclear Material Safety and Safeguards, U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information. Copies should be sent to the appropriate Regional Office and Resident Inspector.

PART 110—EXPORT AND IMPORT OF NUCLEAR EQUIPMENT AND MATERIAL

167. The authority citation for Part 110 is revised to read as follows:

Authority: Secs. 51, 53, 54, 57, 63, 64, 65, 81, 82, 103, 104, 109, 111, 126, 127, 128, 129, 161, 181, 182, 183, 187, 189, 68 Stat. 929, 930, 931, 932, 933, 936, 937, 948, 953, 954, 955, 956, as amended (42 U.S.C. 2071, 2073, 2074, 2077, 2092-2095, 2111, 2112, 2133, 2134, 2139, 2139a, 2141, 2154-2158, 2201, 2231-2233, 2237, 2239); sec. 201, 88 Stat. 1242, as amended (42 U.S.C. 5841); sec. 5, Pub. L. 101-575, 104 Stat. 2835 (42 U.S.C. 2243); sec. 1704, 112 Stat. 2750 (44 U.S.C. 3504 note).

Sections 110.1(b)(2) and 110.1(b)(3) also issued under Pub. L. 96-92, 93 Stat. 710 (22 U.S.C. 2403). Section 110.11 also issued under sec. 122, 68 Stat. 939 (42 U.S.C. 2152) and secs. 54c and 57d, 88 Stat. 473, 475 (42 U.S.C. 2074). Section 110.27 also issued under sec. 309(a), Pub. L. 99-440. Section 110.50(b)(3) also issued under sec. 123, 92 Stat. 142 (42 U.S.C. 2153). Section 110.51 also issued under sec. 184, 68 Stat. 954, as amended (42 U.S.C. 2234). Section 110.52 also issued under sec. 186, 68 Stat. 955 (42 U.S.C. 2236). Sections 110.80-110.113 also issued under 5 U.S.C. 552, 554. Sections 110.130-110.135 also issued under 5 U.S.C. 553. Sections 110.2 and 110.42(a)(9) also issued under sec. 903, Pub. L. 102-496 (42 U.S.C. 2151 et seq.).

168. Section 110.4 is revised to read as follows:

§ 110.4 Communications.

Except where otherwise specified in this part, all communications and reports concerning the regulations in this part should be addressed to the Deputy Director of the NRC's Office of International Programs, either by telephone to (301) 415-2344; by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

169. In § 110.31, paragraph (a) is revised to read as follows:

§ 110.31 Application for a specific license.

(a) A person shall file an application for a specific license to export or import with the Deputy Director of the NRC's Office of International Programs, using an appropriate method listed in § 110.4.

* * * * *

170. In § 110.131, paragraph (a) is revised to read as follows:

§ 110.131 Petition for rulemaking.

(a) A petition for rulemaking should be addressed to the Secretary of the Commission, for the attention of the Secretary's Rulemakings and Adjudications Staff. The petition should be sent using an appropriate method listed in § 110.4.

* * * * *

PART 140—FINANCIAL PROTECTION REQUIREMENTS AND INDEMNITY AGREEMENTS

171. The authority citation for Part 140 is revised to read as follows:

Authority: Secs. 161, 170, 68 Stat. 948, 71 Stat. 576, as amended (42 U.S.C. 2201, 2210); secs. 201, as amended, 202, 88 Stat. 1242, as amended, 1244 (42 U.S.C. 5841, 5842); sec. 1704, 112 Stat. 2750 (44 U.S.C. 3504 note).

172. Section 140.5 is revised to read as follows:

§ 140.5 Communications.

Except where otherwise specified, all communications and reports concerning the regulations in this part and applications filed under them should be sent by mail addressed to: Attn: Document Control Desk; Director, Office of Nuclear Reactor Regulation (or Director, Office of Nuclear Material Safety and Safeguards, as appropriate), U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

173. In § 140.6, the first sentence of paragraph (a) is revised to read as follows:

§ 140.6 Reports.

(a) In the event of bodily injury or property damage arising out of or in connection with the possession or use of the radioactive material at the location or in the course of transportation, or in the event any claim is made therefor, written notice containing particulars sufficient to identify the licensee and reasonably obtainable information with respect to the time, place, and circumstances thereof, or to the nature of the claim, shall be furnished by or for the licensee to the Director of the Office of Nuclear Reactor Regulation, or the Director of the Office of Nuclear Material Safety and Safeguards, as appropriate, using an appropriate method listed in § 140.5, but in any case as promptly as practicable. * * *

* * * * *

PART 150—EXEMPTIONS AND CONTINUED REGULATORY AUTHORITY IN AGREEMENT STATES AND IN OFFSHORE WATERS UNDER SECTION 274

174. The authority citation for Part 150 is revised to read as follows:

Authority: Sec. 161, 68 Stat. 948, as amended, sec. 274, 73 Stat. 688 (42 U.S.C. 2201, 2021); sec. 201, 88 Stat. 1242, as amended (42 U.S.C. 5841); sec. 1704, 112 Stat. 2750 (44 U.S.C. 3504 note).

Sections 150.3, 150.15, 150.15a, 150.31, 150.32 also issued under secs. 11e(2), 81, 68 Stat. 923, 935, as amended, secs. 83, 84, 92 Stat. 3033, 3039 (42 U.S.C. 2014e(2), 2111, 2113, 2114). Section 150.14 also issued under sec. 53, 68 Stat. 930, as amended (42 U.S.C. 2073). Section 150.15 also issued under secs. 135, 141, Pub. L. 97-425, 96 Stat. 2232, 2241 (42 U.S.C. 10155, 10161). Section 150.17a also issued under sec. 122, 68 Stat. 939 (42 U.S.C. 2152). Section 150.30 also issued under sec. 234, 83 Stat. 444 (42 U.S.C. 2282).

175. Section 150.4 is revised to read as follows:

§ 150.4 Communications.

Except where otherwise specified in this part, all communications and reports concerning the regulations in this part should be sent by mail addressed: Attn: Document Control Desk, Director, Office of Nuclear Material Safety and Safeguards, and sent either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

176. In § 150.16, the fourth sentence of paragraph (a) and paragraph (b)(2) are revised to read as follows:

§ 150.16 Submission to Commission of nuclear material transfer reports.

(a) * * * Copies of these instructions may be obtained either by writing the U.S. Nuclear Regulatory Commission, Division of Fuel Cycle Safety and Safeguards, Washington, DC 20555-0001, by e-mail RidsNmssFcss@nrc.gov, or by calling (301) 415-7213. * * *

(b) * * *

(2) Within 15 days, the licensee shall follow the initial report with a written report that sets forth the details of the incident. The report must be sent by an appropriate method listed in § 150.4 of this part to the Director of the NRC's Office of Nuclear Material Safety and Safeguards, with a copy to the appropriate NRC Regional Office, shown in Appendix A to Part 73 of this chapter.

* * * * *

177. In § 150.17, the second sentence of paragraph (a), the last sentence of paragraph (b), and the second and third sentences of paragraph (c) are revised to read as follows:

§ 150.17 Submission to Commission of source material transfer reports.

(a) * * * Copies of these instructions may be obtained either by writing the U.S. Nuclear Regulatory Commission, Division of Fuel Cycle Safety and Safeguards, Washington, DC 20555-0001, by e-mail RidsNmssFcss@nrc.gov, or by calling (301) 415-7213. * * *

(b) * * * Copies of the reporting instructions may be obtained from the NRC's Division of Fuel Cycle Safety and Safeguards, in the Office of Nuclear Material Safety and Safeguards, by writing the Division at the U.S. Nuclear Regulatory Commission, Washington, DC 20555-0001, by e-mail RidsNmssFcss@nrc.gov, or by calling (301) 415-7213.

(c) * * * The initial report must be followed within a period of fifteen days by a written report that sets forth the details of the incident and its consequences. The report must be submitted using an appropriate method listed in § 150.4 to the Director of the NRC's Office of Nuclear Material Safety and Safeguards, with a copy to the appropriate NRC Regional Office, as shown in Appendix A to Part 73 of this chapter. * * *

* * * * *

178. In § 150.19, the second and third sentences of paragraph (c) are revised to read as follows:

§ 150.19 Submission to Commission of tritium reports.

* * * * *

(c) * * * The initial report must be followed within a period of fifteen days by a written report that sets forth the details of the incident and its consequences. The report must be submitted to the Director, Office of Nuclear Material Safety and Safeguards, using an appropriate method listed in § 150.4, with a copy to the appropriate NRC Regional Office as shown in Appendix A to Part 73 of this chapter. * * *

* * * * *

PART 170—FEES FOR FACILITIES, MATERIALS, IMPORT AND EXPORT LICENSES AND OTHER REGULATORY SERVICES UNDER THE ATOMIC ENERGY ACT OF 1954, AS AMENDED

179. The authority citation for Part 170 is revised to read as follows:

Authority: Sec. 9701, Pub. L. 97-258, 96 Stat. 1051 (31 U.S.C. 9701); sec. 301, Pub. L. 92-314, 86 Stat. 227 (42 U.S.C. 2201w); sec. 201, Pub. L. 93-438, 88 Stat. 1242, as amended (42 U.S.C. 5841); sec. 205a, Pub. L. 101-576, 104 Stat. 2842, as amended (31 U.S.C. 901, 902); sec. 1704, 112 Stat. 2750 (44 U.S.C. 3504 note).

180. Section 170.5 is revised to read as follows:

§ 170.5 Communications.

All communications concerning the regulations in this part should be addressed to the NRC's Chief Financial Officer, either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

PART 171—ANNUAL FEES FOR REACTOR LICENSES AND FUEL CYCLE LICENSES AND MATERIALS LICENSES, INCLUDING HOLDERS OF CERTIFICATES OF COMPLIANCE, REGISTRATIONS, AND QUALITY ASSURANCE PROGRAM APPROVALS AND GOVERNMENT AGENCIES LICENSED BY THE NRC

181. The authority citation for Part 171 is revised to read as follows:

Authority: Sec. 7601, Pub. L. 99-272, 100 Stat. 146, as amended by sec. 5601, Pub. L. 100-203, 101 Stat. 1330, as amended by sec. 3201, Pub. L. 101-239, 103 Stat. 2132, as amended by sec. 6101, Pub. L. 101-508, 104 Stat. 1388, as amended by sec. 2903a, Pub. L. 102-486, 106 Stat. 3125 (42 U.S.C. 2213, 2214); sec. 301, Pub. L. 92-314, 86 Stat. 227 (42 U.S.C. 2201w); sec. 201, Pub. L. 93-438, 88 Stat. 1242, as amended (42 U.S.C. 5841); sec. 1704, 112 Stat. 2750 (44 U.S.C. 3504 note).

182. Section 171.9 is revised to read as follows:

§ 171.9 Communications.

All communications concerning the regulations in this part should be addressed to the NRC's Chief Financial Officer, either by mail to the U.S. Nuclear Regulatory Commission, Washington, DC 20555-0001; by hand delivery to the NRC's offices at 11555 Rockville Pike, Rockville, Maryland; or, where practicable, by electronic submission, for example, via Electronic Information Exchange, or CD-ROM. Detailed guidance on making electronic submissions can be obtained by visiting the NRC's Web site at http://www.nrc.gov/site-help/eie.html, by calling (301) 415-6030, by e-mail to EIE@nrc.gov, or by writing to the Applications Development Division, Office of the Chief Information Officer, U.S. Nuclear Regulatory Commission, Washington, DC 20555-0001. The guidance discusses, among other topics, the formats the NRC can accept, the use of electronic signatures, and the treatment of nonpublic information.

Dated at Rockville, Maryland, this 21st day of August, 2002.
For the Nuclear Regulatory Commission.
Annette Vietti-Cook,
Secretary of the Commission.

Note: This appendix will not be printed in the Code of Federal Regulations

Appendix A—United States Nuclear Regulatory Commission (NRC) Guidance for Electronic Submissions to the Commission

Index

1.0 Introduction

1.1 Background

1.2 Scope

1.3 Applicable Transactions

1.3.1 Exceptions to Electronic Submission

1.3.2 Electronic Forms and Payments

1.3.3 Submissions Requiring Oath or Affirmation

1.3.4 10 CFR Part 2 Submissions

1.3.5 Freedom of Information Act and Privacy Act Requests

2.0 Parameters for Electronic Files Submitted to the NRC

2.1 File Formats

2.2 Naming Conventions

2.3 File Size Limitations

2.4 Security/Access Settings

2.5 Resolution

2.6 Use of Color

2.7 Files with Special Printing

2.8 File Linkages

2.9 Viruses

2.10 Macros

2.11 Copyrighted information

2.12 Copies

3.0 Guidance for ElE Submissions

3.1 Who Can Participate

3.2 How to Register

3.3 What is Needed to Participate

3.4 How to Obtain a Digital Signature Certificate

3.5 How to Obtain Software Plug-ins

3.6 How to Submit Documents

3.7 Where to Submit Documents

3.8 Additional User Assistance (references and contact information)

4.0 Guidance for CD-ROM Submissions

4.1 Who Can Participate

4.2 What Can be Submitted

4.3 How to Submit CD-ROMs to the NRC

4.3.1 Sensitive or Non-Public Documents

4.3.2 Oath or Affirmation

4.3.3 Living Documents

4.3.4 CD-ROM File Format

4.3.5 Packaging/Labeling

4.3.6 Rejection of Submissions

4.4 Where to Submit the CD-ROMs

4.5 Additional User Assistance (references and contact information)

5.0 E-mail Submissions

5.1 Who Can Participate

5.2 What Can be Submitted

5.3 Rejection of Submissions

5.4 How to Send E-mail

5.5 Where to Submit E-mail

6.0 Facsimile Submissions

6.1 Who Can Participate

6.2 What Can be Submitted

6.3 How to Send Facsimiles (Faxes)

6.4 Where to Submit Facsimiles (Faxes)

6.5 Facsimile Locations and User Assistance

7.0 Additional Resources

7.1 User Assistance

7.2 References

1.0 Introduction

1.1 Background

On September 6, 2002, the Nuclear Regulatory Commission (NRC) promulgated a direct final rule on electronic submission of information to the agency. This rule modified many NRC regulations to explicitly authorize electronic communications with the agency. The final rule stated that the NRC would issue specific guidance on acceptable procedures for electronic submissions. That guidance is contained in this document. This guidance document is the controlling source of information on electronic submissions to the NRC and supersedes NRC Regulatory Issue Summary 2001-05, Guidance on Submitting Documents to the NRC by Electronic Information Exchange or on CD-ROM, and the August 10, 2001, letter issued to certain fuel cycle facilities extending to them the option of electronic submissions in many instances. The NRC plans to update this guidance periodically to reflect changes in technology and agency experience. While the Commission encourages the submission of electronic documents, submission of paper documents remains acceptable.

1.2 Scope

This guidance document governs the electronic submission of documents to the NRC. It includes the required procedures for corresponding electronically with the NRC via the Internet using Electronic Information Exchange (EIE), by CD-ROM, or by e-mail. It also includes procedures for corresponding by facsimile (fax). It does not address submission of other forms of electronic information (e.g., data files, computer models, and videos), and does not address outgoing NRC communications.

EIE software provides for the electronic submission of information to the NRC in a secure manner. It requires the use of digital signatures and certain software plug-ins. Procedures for acquiring a digital signature for communicating with the NRC via EIE can be found at Section 3.4, and procedures for acquiring the required software can be found at Section 3.5.

1.3 Applicable Transactions

Documents or other information submitted under oath or affirmation, or other documents where secure transfer is either required or appropriate, should be submitted over the Internet using EIE or submitted on CD-ROM. While e-mail is not appropriate for most submissions required by NRC regulations, e-mail may be used for certain other correspondence and communications with the NRC, such as rulemaking petitions and comments on rulemaking proceedings, collaborative communications with States and other Federal agencies, requests for enforcement actions under 10 CFR 2.206, and Freedom of Information Act (FOIA) requests and appeals, but not for information covered under the Privacy Act.

E-mail may be addressed to either specific individuals named as contacts in Federal Register Notices or other agency communications, or to the office specified in the regulation or communication specific to the document(s) being submitted; to addresses the NRC Web site provides for individual program offices or specific agency functions or services; or to the Office of Public Affairs. Individual program offices may be contacted through the NRC Web site at http://www.nrc.gov by selecting specific contact pages from “Contact Us” on the home page. The Office of Public Affairs may be contacted through the Contact Us on the home page or at OPA@nrc.gov (use upper case where indicated). Except for communications using EIE, the sender will not be e-mailed a confirmation of receipt of the submission.

1.3.1 Exceptions to Electronic Submission

All communications with the NRC may be submitted electronically via the Internet except for the following:

1. Classified information (i.e., National Security Information and Restricted Data), Safeguards Information, Sensitive Homeland Security Information, Privacy Information which is protected by the Privacy Act (5 U.S.C. 552(a)), Proprietary Information, or Official Use Only Information. This information may only be submitted electronically on CD-ROM.

2. “Immediate” or “prompt” notifications to the NRC that NRC regulations require be made by telephone, telefax or telegram up to one week before or after an event (e.g., 10 CFR 30.50 or 30.55(c)).

3. Notice of filing of bankruptcy petition, whether voluntary or involuntary (e.g., 10 CFR 30.34(h)(1)).

4. Hearing requests, and documents pertaining to hearings or associated appeals, including, but not limited to, those associated with hearings conducted under 10 CFR Parts 2, 4, 10, 12, 13, 14, 16, 19, 25, 76, 81, 110, 140, and 150. Separate rules or guidance addressing procedures for electronic communications in hearings will be issued in the future for public comment, but it should be noted that the document format standards outlined in this guidance document subsequently may be determined to apply to documents submitted to agency adjudicatory dockets. It is conceivable that, as a result of a future rulemaking proceeding, the current format requirements in 10 CFR Part 2, Subpart J, for example, could be superseded by the document format standards presented in this guidance document. Accordingly, interested parties should consider the impact the approach outlined in this guidance could have on their preparation of materials for future submission. (Nothing in this guidance document precludes presiding officers from their current practice of authorizing electronic communications on a case-by-case basis.)

5. Documents served on the NRC as a participant in Federal Court proceedings or in non-NRC administrative proceedings (such as administrative proceedings before the Merit Systems Protection Board, unless electronic submission is authorized by rule or order issued by a Federal Court or Agency).

6. NRC contractor proposals or invoices submitted in response to specific contractual requirements. (Because Federal Acquisition Regulation guidance as contained in Section 30 of the Office of Federal Procurement Policy Act [41 U.S.C. 426] allows the Federal Government to use electronic commerce whenever practical, guidance for electronic submittal of proposals and invoices will be addressed in individual procurements. Further guidance for submission of these documents will be issued at a later date.)

7. Financial assurance instruments to meet decommissioning cost requirements and prescribed by regulation at 10 CFR 30.35(e), 40.36(e), and 70.25(f) (including surety bonds, letters of credit, lines of credit, and insurance).

8. Documents with special attributes. (See section 2.7)

9. Fingerprint cards (Form FD-258, ORIMDNRCOOOZ) required for criminal history checks under 10 CFR 73.57.

1.3.2 Electronic Forms and Payments

Each form referred to in the NRC regulations can be found on the NRC Web site at http://www.nrc.gov in PDF format for viewing and printing by selecting “Forms” from the Index found on the home page and Selecting the specific form required.

Financial payments required by regulations can be submitted electronically. Copies of NRC Form 628 to establish financial authorization electronically can be found at the NRC Web site at http://www.nrc.gov by selecting “Forms” form the index found on the home page. Payments by credit card of Part 171 annual fees, Part 170 licensing and inspection fees, civil penalties and other fees, may be done by completing the authorization form included with the invoice or civil penalty. A copy of the form may be printed from the NRC Web site at http://www.nrc.gov by selecting “Forms” from the index found on the home page and selecting “NRC Form 629, Authorization for Payment by Credit Card.”

1.3.3 Submissions Requiring Oath or Affirmation

Submissions requiring oath or affirmation may be submitted electronically using EIE or on CD-ROM. (See Sections 3.6 and 4.3.2 of this guidance document). These include the following:

1. Documents that by statute must be submitted under oath or affirmation (e.g., Section 182 of the Atomic Energy Act of 1954, as amended, 42 USC 2232). Generally, oath or affirmation requirements exist for applications for a license, amendments to a license, some licensee responses to Notices of Violation (NOV), and certain letters of transmittal. The NRC's regulations in 10 CFR Parts 2 and 50 implement these statutory requirements, and certain regulations require an oath or affirmation for submission of documents (see, e.g., 10 CFR 50.54(f) and 10 CFR 50.30(b)).

2. Documents that must be sent by certified mail (e.g., 10 CFR Part 30, Appendix A II. C. 2).

1.3.4 10 CFR Part 2 Submissions

Rulemaking petitions, comments filed in rulemaking proceedings (10 CFR Part 2, Subpart H), and requests for enforcement action under 10 CFR 2.206 may be submitted via EIE, CD-ROM, or e-mail. Other documents submitted pursuant to 10 CFR Part 2, Subpart B, “Procedure for Imposing Requirements By Order, or for Modification, Suspension, or Revocation of a License, or for Imposing Civil Penalties,” may be submitted via EIE or CD-ROM. Submission of all other documents covered under Part 2 are excluded from the scope of this guidance document. Separate rules or guidance addressing procedures for electronic communications in hearings will be issued in the future for public comment, but it should be noted that the document format standards outlined in this guidance document subsequently may be determined to apply to documents submitted to agency adjudicatory dockets. It is conceivable that, as a result of a future rulemaking proceeding, the current format requirements in 10 CFR Part 2, Subpart J, for example, could be superseded by the document format standards presented in this guidance document. Accordingly, interested parties should consider the impact the approach outlined in this guidance could have on their preparation of materials for future submission.

1.3.5 Freedom of Information Act and Privacy Act Requests

All Freedom of Information Act (FOIA) requests and appeals may be submitted electronically by EIE, CD-ROM, or e-mail. Privacy Act requests cannot be submitted electronically because additional identification is required before the agency will process the request. See 10 CFR 9.54.

2.0 Parameters for Electronic Files Submitted to the NRC

Unless otherwise noted in the sections detailing the mode of submission which follow, all electronic documents submitted to the NRC should meet the file format specifications delineated in this section. These specifications also apply to all enclosures or attachments that are documents as well. Note: any electronic file that can be converted to PDF format (spread sheets, slide presentations, etc.) are considered documents by the NRC and are subject to these specifications.

Submittals may also contain other forms of electronic information including data files, computer models, and video or audio clips that are not considered documents. These files are not required to conform to the file format specifications established for documents.

2.1 File Formats

The acceptable file formats for submitting documents via EIE, CD-ROM, and e-mail with the associated versions, default file extensions, and preferred use are shown in the tables below.

File format | Version | Filename extension | Preferred use
Adobe ® Portable Document Format (PDF) Formatted Text and Graphics (Formely known as PDF Normal)* ** | 4.05 or earlier | pdf | Text-oriented documents converted from native applications.
Adobe ® PDF Searchable Image (Exact) (formerly known as PDF Original Image with Hidden Text | 4.05 or earlier | pdf | Text-oriented documents converted from scanned documents.
PDF Image Only | 4.05 or earlier | pdf | Preferred format for graphic/image-oriented documents.
Multi-page TIFF | CCITT T.6 Group 4 or CCITT T.5 Group 4 | tif | Alternate format for graphic/image-oriented documents.
* Preferred formats generated using Adobe® products.
** Not acceptable for conversion of scanned documents.
Note: Adobe has recently established a fourth PDF format (PDF Searchable Image (Compact) that uses compression techniques to reduce file sizes of images. This is not an acceptable format for submission to the NRC.

In most cases the NRC recommends that spreadsheet applications also be converted to one of the acceptable PDF file formats. However, spreadsheets that are submitted to the NRC so that the NRC staff can use the data to perform additional calculations/analyses using the native software applications may be submitted using the following acceptable formats.

File format | Version | Filename extension | Preferred use
Microsoft ® Excel® | 97 or earlier | xls | Spread Sheet calculations.
Corel® QuattroPro | 8 or earlier | wb3 | Spread Sheet calculations.
Lotus® 1-2-3 | 9 or earlier | wk3/wk4 | Spread Sheet calculations.

When submitting the electronic file using one of the acceptable formats listed in the tables above, do not change the default, three-character extension for the file (e.g., a document prepared as “license amendment.pdf” should be submitted with the “.pdf” file extension).

2.2 Naming Conventions

Documents submitted to the NRC using CD-ROM or e-mail must:

(1) Have filenames that are limited to 116 characters in length (including the “.” and the three-character filename extension).

(2) Retain the default three-character file extension associated with the format in which the document was created (Example: for files created to conform to Adobe's Portable Document Format, “.pdf”; for files created to conform to the Tagged Image Format, “.tif”).

(3) Include a three-digit numeric prefix (e.g., 001, 002, 003) in the filename that designates the correct order of the files contained in the submission, followed by the name of the file (Example: “001document name of first document.pdf”).

Documents submitted to the NRC via EIE (see Section 3.0) do not need special file naming conventions. Documents submitted via EIE should have file names that conform to items (1) and (2) above. In addition, documents submitted using EIE are programmatically provided a naming convention which designates the order of the files contained in the submission and a date of receipt for each file.

2.3 File Size Limitations

Large size files create challenges for both the NRC staff and the public when viewing or downloading the documents. Therefore, the NRC requests that submitters make every effort to limit the file size of electronic submittals. For example, when generating documents for submission, files should be created using logical breaks in the document (e.g., file broken up into individual chapters). Although the CD-ROM may contain the maximum number of MBs possible, it is necessary to try to limit each individual file on the CD to 20 MB or less. The maximum file size that can be submitted to the NRC also depends on the method of transmission. The use of compression techniques (zipped files, downsized files, etc.) is not allowed for electronic files submitted to the NRC. The table below summarizes the size limitations based on the method of file transmission:

Method of transmission | File size limitations
Electronic Information Exchange (EIE) | Less than or equal to 25MB†
CD-ROM | 20MB or less per individual file on CD††
E-mail | Less than or equal to 10MB†
†Total, combined size of message and attachments.
††The total CD capacity may be used but submitters are urged to limit individual files to 20MB or less.

2.4 Security/Access Settings

Submissions should not contain any security settings, password protections, or any other attributes that will exclude full NRC access to and use of the files. NRC's internal security and archival processes will maintain the integrity of the materials that are submitted.

2.5 Resolution

Tagged Image File Format (TIFF) or PDF documents must be created using the following resolution guidelines:

TIFF formatted documents | PDF formatted documents ᵃ,ᵇ
• Bi-tonal (black and white) TIFF resolution, 300 dpi | • Bi-tonal (black and white) PDF resolution, 300 dpi.
• Color TIFF resolution, 200 dpi | • Color PDF resolution, 200 dpi.
• Grayscale TIFF resolution, 200 dpi | • Grayscale PDF resolution, 200 dpi.
ᵃ PDF files containing scanned images of text, in PDF Original Image with Hidden Text format, or PDF Normal files containing images of text are unrecognized by the Optical Character Recognition (OCR) conversion process because they represent non-textual information. Documents containing integrated images of text inserted in textual documents will not be accepted.
ᵇ Adobe® Acrobat® “downsampling” may result in images with resolutions less than acceptable for submission to the NRC. Therefore, its use is not permitted.

2.6 Use of Color

The NRC discourages the use of color because it significantly increases file size. If the use of color adds no value to the understanding of the information presented, its use should be avoided. If color is required to make the document understandable, its limited use is acceptable. Examples of color documents that meet this criteria are graphs, bar-charts, and engineering drawings that depend exclusively on the differences in color to understand the information and data being presented.

2.7 Files With Special Attributes

Documents that contain electronic files with special attributes present many challenges when trying to manage them in an electronic environment. The NRC currently does not have the technical capability to quickly and cost-effectively reproduce documents with special printing requirements (such as requiring the use of a plotter or other special equipment to print) or other enhancements such as 3D images, etc. Therefore, if a person chooses to submit documents with special attributes electronically, he or she must submit the number of CD-ROMs required by the regulations, plus one paper copy.²

² No documents with special attributes will be accepted via EIE.

2.8 File Linkages

Files containing objects (e.g., pictures, tables, spreadsheets, and images of text) using link protocols such as Object Linking and Embedding (OLE), Dynamic Data Exchange (DDE), or any other object linking are not practicable for the NRC to accept.

2.9 Viruses

Files received by the NRC will be checked for viruses prior to acceptance. Any submission that contains a virus will be returned to the submitter.

2.10 Macros

Macros in files such as Microsoft® Excel are sometimes detected as viruses. Therefore, the use of macros should be limited because a file identified as having a virus will be returned to the submitter.

2.11 Copyrighted Information

Except as provided below, submitting information electronically to the NRC through the EIE process shall be deemed to constitute authority for the NRC to place a copy of the information on its public document database and to reproduce and distribute sufficient copies to carry out its official responsibilities. Any person submitting information shall be deemed to represent to the NRC that he or she has legal authority to submit the document and to permit NRC to reproduce and distribute the document, and shall hold the NRC harmless from damages that result from the NRC's reproducing or distributing the documents.

If a document contains a copyright notice, or is accompanied by any other statement restricting reproduction, NRC will not accept the information electronically unless the submitter provides an explicit statement authorizing the NRC to make copies of the material in accordance with this guidance. If the submitter lacks authority to permit NRC to reproduce the document, NRC will not accept the information electronically until the submitter provides written authorization from the copyright owner for the NRC to make copies of the material in accordance with this guidance.

NRC use of the information specified herein does not constitute authority for others to use the information outside applicable requirements of copyright law.

2.12 Copies

Licensees and vendors submitting documents via EIE do not need to send confirming hard copies of the electronic documents. Licensees, applicants, and members of the public submitting documents on CD-ROM are required to submit as many copies as required by the applicable agency regulation or order and accompanied by one paper copy as well. This is because the agency does not have the capability to reproduce paper copies of these submissions cost effectively or rapidly enough to meet the needs of the NRC and the public. However, as the technology evolves and the NRC staff gains more experience processing and reproducing documents in the electronic environment, and becomes more comfortable working in an electronic environment, NRC will reassess this approach and modify the guidance document, as appropriate.

3.0 Guidance for EIE Submissions

3.1 Who Can Participate

The participant population includes applicants, licensees, external entities (including Federal, State, and Local governments), and vendors who are required to submit documents to the NRC. The EIE is designed to ensure that electronic documents can be transmitted via the Internet in a secure and unalterable manner. Submittals such as those that are required to be submitted under oath or affirmation may be safely transmitted via the Internet. Applicants, licensees, vendors etc. will designate individual users who have the responsibility for originating, signing, or sending documents to the NRC in compliance with regulatory requirements.

3.2 How To Register

The NRC provides for overall administration of the EIE process through the designated Local Registration Authority (LRA). The LRA creates and maintains an Authorized Certificate List (ACL) consisting of authorized internal and external EIE participants. Each participant must send an ACL containing the name and e-mail addresses of individuals who will be submitting digitally signed documents to the NRC. The ACL must be sent to the NRC in a signed paper form to the following address: Local Registration Authority (T6 C30), Electronic Information Exchange, U.S. Nuclear Regulatory Commission, Washington, DC 20555-0001.

Upon receipt of the ACL, the NRC will e-mail to each individual named a unique personal identification number (PIN) to be used in applying for a digital certificate. Once received, the digital certificate will then enable individual users to digitally sign documents and submit them in a secure manner. The PIN number will be sent approximately 3 to 5 business days after receipt of the ACL. Participants may add or delete names from the ACL by written notification to the NRC using the above address. The LRA will use the ACL to validate authorized individuals requesting digital signature certificates. The LRA may be contacted via e-mail at EIE@nrc.gov.

3.3 What Is Needed To Participate

Participating individuals in the EIE initiative may use their existing workstations with standard desktop configuration. The recommended workstation configuration requires a Pentium 133 MHZ (or higher) with a minimum of 32 MB of RAM, 20 MB of available disk space, and access to the World Wide Web (Web) through an Internet Service Provider (ISP). The operating system should be either Windows NT or Windows 95 (or higher). In addition, each workstation must be equipped with browser software, consisting of either Netscape Navigator or Communicator (version 4.6 or higher) or Microsoft Internet Explorer (version 5.0 or higher). Other browser types, such as AOL or Mosaic, are not currently supported for use in the EIE system.

In order to utilize EIE, each individual must obtain a digital signature certificate (Digital ID). (See Section 3.4 of this guidance document.) Additionally, there are software plug-ins that must be downloaded and installed. In the subsequent sections, each process and step required to setup a computer or workstation to use EIE is described. The processes and steps described are specific to both Netscape Navigator/Communicator 4.6 or higher and Microsoft Internet Explorer 5.0 or higher.

3.4 How To Obtain a Digital Signature Certificate

All users must have a Digital ID in order to use EIE. A Digital ID is used to submit and digitally sign the form used to submit documents and will be required in order to access the EIE external server to retrieve documents, if appropriate. The EIE system requires the use of an NRC-issued Digital Certificate.

To obtain a Digital ID, authorized participants must first complete and submit an enrollment form. VeriSign, Inc. acts as the NRC's Certificate Authority (CA) and provides the NRC with a Digital Certificate (ID) enrollment page on their Web site. The NRC provides VeriSign Onsite Digital Certificates (ID's) at no cost. The steps for obtaining a Digital Certificate are provided on the EIE home page at http://www.nrc.gov/site-help/eie.html. After accessing the EIE home page, click on the “Request / Retrieve Certificate” hyperlink and follow the step-by-step prompts.

3.5 How To Obtain Software Plug-Ins

In order to utilize the EIE system, users will need to download and install two software plug-ins. The software plug-ins required are browser-dependent and can be obtained from the EIE home page on the NRC Web site at (http://www.nrc.gov/site-help/eie.html). The specific plug-ins required are the Internet Form Viewer, which is a required plug-in regardless of the browser used, a signaturing plug-in for Netscape users, and a separate viewer plug-in for Microsoft Explorer users. To successfully download and install the plug-ins, simply go to the EIE home page and click on the “EIE Start Up” hyperlink and follow the step-by-step procedures provided.

3.6 How To Submit Documents

Documents eligible for submission to the NRC are restricted to specific formats. No documents with special attributes (e.g., documents with special printing requirements, such as requiring the use of a plotter or other special equipment to print) or other enhancements such as 3D images, etc. will be accepted via EIE. The acceptable formats for electronic submission via EIE are listed in Section 2.1 above. The submission of documents to the NRC using EIE will require the use of the NRC's EIE form. The EIE form is a document based on Extensible Mark-up Language (XML). It allows participants to sign, enclose, submit, and verify documents via the Internet. The document to be submitted or transmitted must be presented as an enclosure to the form. The form can be accessed by going to the NRC Web site at (http://www.nrc.gov/site-help/eie.html). Once there, select the “Submit/Retrieve” hyperlink and click on “Go to Form.”

Once the form is displayed, users will need to fill in the fields on the form and attach the document(s) for submission to the NRC. Once the fields have been filled in and the intended documents are attached, the form must be digitally signed.

Documents submitted electronically using EIE do not need to be digitally signed by the author(s). They may be digitally signed by the person who transmits them, but the author(s) are accountable for the content of the document(s) submitted. Generally, the persons who will digitally sign documents and transmit them electronically to the NRC are the same persons who currently dispatch licensing documents through the mail to the NRC. Licensees and vendors submitting documents via EIE do not need to send confirming hard copies of the electronic documents.

NRC regulations require that some documents be filed under oath or affirmation. If such a document is transmitted electronically using EIE, it must conclude with a statement to this effect:

“I declare under penalty of perjury that the foregoing is true and correct. Executed on [date]”.

The electronic document must be digitally signed by the person affirming this statement. This person may then transmit the document directly to the NRC using EIE or may forward the document to someone else for transmission to the NRC. In the latter case, the transmitter must also digitally sign the document.

Documents transmitted to the NRC electronically using EIE will be time- and date-stamped when the last bit of the transmittal is received by the EIE server. The time and date of the transmission will become part of the record in the NRC's Agencywide Documents Access and Management System (ADAMS). The transmitter will be e-mailed a notice of receipt of the document. The notice will include the time and date the transmission was received at the NRC.

Submission of documents via EIE satisfies agency submittal requirements. The submitter need not send additional copies to NRC regions or other agency offices.

For more detailed information and step-by-step procedures on how to submit documents to the NRC using EIE, see the “EIE Submittal Procedures” on NRC's Web site at http://www.nrc.gov/site-help/eie.html.

3.7 Where To Submit Documents

Documents submitted using EIE are automatically sent to the NRC Document Processing Center for processing into ADAMS. No additional information is necessary, except for submittals intended for a Region. Submissions intended for the Regions should have the Region(s) listed in the comment box contained on the submission form.

3.8 Additional User Assistance (References and Contact Information)

Additional information, as well as detailed user guides can be obtained from NRC's Web site at (http://www.nrc.gov/site-help/eie.html).

Should you have any questions, please contact the Local Registration Authority (LRA) at (301) 415-6030 or by e-mail at EIE@nrc.gov.

4.0 Guidance for CD-ROM Submissions

4.1 Who Can Participate

This guidance is intended for licensees, applicants, external entities (including Federal, State, and Local governments), vendors, and members of the public who submit documents to the NRC.

4.2 What Can Be Submitted

Documents may be submitted via CD-ROM, except as noted in Section 1.3.1 above. As mentioned in Section 1, there are also documents that should only be submitted using CD-ROM, such as large documents exceeding 15 megabytes. However, documents that are submitted on CD-ROM must also be submitted with one paper copy. Also, documents containing Classified information (i.e., National Security Information and Restricted Data), Safeguards Information, Privacy Information which is protected by the Privacy Act (5 U.S.C. 552(a)), Proprietary Information, or Official Use Only Information may only be submitted electronically on CD-ROM and not via EIE or e-mail.

4.3 How To Submit CD-ROMs to the NRC

Each CD-ROM submission must be transmitted by a signed letter in paper format. Documents submitted pursuant to NRC regulations must cite the relevant regulations in either the subject line or the first paragraph of the transmittal letter. The transmittal letter must include the name, phone number, mailing, and e-mail address of a contact person who can respond to questions about the submission. In addition, if there are any special instructions regarding the use of the CD-ROM (e.g., how to open the files, access the publication, etc.), they should be included as part of the transmittal letter. When a CD-ROM contains multiple documents, the transmittal letter must identify each document contained on the CD-ROM. The transmittal letters for CD-ROMs containing Classified Information (i.e., National Security Information and Restricted Data) must be marked in accordance with 10 CFR 95.37 and mailed to the NRC Classified mailing address. If the CD-ROM contains sensitive or non-public documents, the additional requirements in Section 4.3.1. apply.

CD-ROM submissions of documents must be accompanied by one paper copy as well. This is because the agency does not have the capability to reproduce paper copies of these submissions cost effectively or rapidly enough to meet the needs of the NRC and the public. However, as the technology evolves, and staff becomes more comfortable working in an electronic environment, NRC will reassess this approach and modify the guidance document, as appropriate.

4.3.1 Sensitive or Non-Public Documents

The sensitivity level of the transmitted documents must be included on the first page of the accompanying transmittal letter. Documents containing Classified Information (i.e., National Security Information and Restricted Data), Safeguards Information, Sensitive Homeland Security Information, Privacy Act Information, Proprietary Information, or Official Use Only Information should be submitted in a CD-ROM version intended for internal NRC review only. (This information may only be submitted electronically on CD-ROM, but not via EIE or e-mail. Detailed guidance on withholding Sensitive Homeland Security Information is contained in COMSECY-02-0015, which can be obtained by visiting the NRC's Web site at http://www.nrc.gov/reading-rm and selecting “COMSECY-02-0015”.) NRC regulations will prescribe how many copies are to be submitted. If the CD-ROM contains non-public information, the submitter shall provide the NRC with the prescribed number of copies of the complete material, plus one CD-ROM containing only the publicly available information. This CD-ROM must be clearly labeled “Publicly Available Information.” Thus, if an applicant is required to submit 15 copies, it would send 15 CD ROM copies of the complete material containing both the public and the non-public document and one additional CD-ROM containing only the publicly available information for placement in the agency's PDR, and one paper copy of the complete material and one paper copy containing only the publicly available information.

4.3.2 Oath or Affirmation

NRC regulations require that some documents be filed under oath or affirmation. If such a document is submitted on CD-ROM, the transmittal letter must contain the oath and the signature of the person swearing to the accuracy of the information submitted. Specifically, the letter must include the following statement with the signature of the person affirming it:

“I declare under penalty of perjury that the foregoing is true and correct. Executed on [date]”.

4.3.3 Living Documents

Many large documents historically submitted to the NRC have been maintained as living documents and have used a page-replacement strategy for update. In the electronic environment this approach is not practicable. Consequently, if a submitter chooses to use electronic submission of these documents, all subsequent updates must be performed on a total-replacement basis. The updated version must include a list of changed pages and each changed page must include both a change indicator for the area changed, for example a bold line vertically drawn in the margin adjacent to the portion actually changed, and a page change identification (date of change or change number or both).

4.3.4 CD-ROM File Format

The acceptable file formats are stated in Section 2.1. However, for text-oriented documents, the preferred file formats are Portable Data Format (PDF) Normal and PDF Original Image with Hidden Text. PDF Image Only is preferred for submission of graphic\image documents. PDF files and TIFF files should be scanned at the resolutions stated in Section 2.5 of this document.

Large documents made up of multiple files, folders, etc., often require the inclusion of a search engine on the CD-ROM to facilitate navigation, search, and retrieval of the document. The inclusion of the search engine enables the user to access the material contained on the CD-ROM without having to rely on other software in the users' resident environment. The NRC encourages the inclusion of these search engines to facilitate the use of the materials in stand-alone mode. However, only those products that do not require the end-user to purchase a license to use are acceptable.

4.3.5 Packaging/Labeling

When submitting documents that contain both publicly and non-publicly available files, all of the files should be included on a CD-ROM. In addition, a separate CD-ROM must be provided that contains only the publicly available files. Each CD-ROM must be clearly labeled indicating its availability. CD-ROMs labeled as “Publicly Available” will be released to the public (sent to the Public Document Room, where they are available for inspection and copying). The mailing package containing CD-ROMs with documents comprised of Safeguards, Proprietary, or Privacy Act Information must be marked in accordance with the requirements set forth in 10 CFR 2.790(b) and 73.21(e). The mailing package forwarding CD-ROMs containing Classified Information must be submitted to NRC in accordance with the requirements contained in 10 CFR 95.39.

4.3.6 Rejection of Submissions

It is not practicable for the NRC to accept:

• Any submission that contains a virus.

• Files submitted that are compressed.

• File formats other than those listed in Section 2.1.

• CD-ROMs that contain both publicly and non-publicly available files on a single CD, unless a second CD with only publicly available information is also provided.

• CD-ROMs containing OLE (Object Linking and Embedding), DDE (Dynamic Data Exchange), or any other object linking.

4.4 Where To Submit the CD-ROMs

Send CD-ROMs with transmittal letter to the mailing address specified in the regulation, order, or other document governing the submission of that particular application, report or correspondence.

4.5 Additional User Assistance (references and contact information)

Information can be found in the “CD-ROM Submittal Procedures”, found in Related Information, by visiting the NRC's Web site at http://www.nrc.gov/site-help/eie.html.

For assistance or to discuss problems with making CD-ROM submissions of electronic filings, contact the Document Processing Services Section at 301-415-2488 during the NRC's normal business hours (7:30 a.m. to 4:15 p.m. eastern time) or e-mail EIE@nrc.gov.

5.0 E-mail Submissions

5.1 Who Can Participate

This guidance is intended for licensees, applicants, external entities (including Federal, State, and Local governments), vendors and members of the public who submit documents to the NRC.

5.2 What Can Be Submitted

Documents (except for collaborative communications with States and other Federal agencies) submitted by e-mail, including the text of the e-mail, should contain only information that could be made available to the public and may be used for:

• Rulemaking petitions and comments in rulemaking proceedings.

• Requests for enforcement action under 10 CFR 2.206, which may be sent to 2206PETITIONS@NRC.GOV.

• FOIA requests and appeals (unless Privacy Act information is sought; review Section 1.3.5 for additional details).

• Responses to Federal Register Notices or other agency communications where NRC has provided a specific e-mail address.

Multiple document attachments are acceptable, but the e-mail cannot exceed the 10MB size limitation, and the e-mail must include the required information as listed in Section 5.4.

In addition, the NRC provides a listing of contacts on the NRC Web site at http://www.nrc.gov that can be used for a variety of e-mail communications to the agency by selecting “Contact Us” from the home page. Documents can be submitted by e-mail for the purposes identified on the Web site, and should be sent to the specific e-mail address provided for each form of communication.

5.3 Rejection of Submissions

File submissions that do not meet the parameters outlined in this document, especially as outlined in Section 2.0, will be rejected and will require re-submission. If the e-mail (with attachments) exceeds the 10 MB size requirement or contains a virus, the sender will receive an automated “Undelivered Mail” notice stating the reason for the delivery rejection.

If the documents do not comply with other file parameters outlined in Section 2.0 (e.g., unknown file format, compressed files, incorrect naming convention, corrupt/unreadable file or if it contains macros identified as potential viruses), the intended recipient may notify the addressee to re-submit the document(s). Finally, the body of the e-mail message/text must include the required information as listed in Section 5.4.

5.4 How To Send E-mail

Files sent via e-mail must be sent as an attachment to the e-mail message in order to retain the original formatting of the document(s). The e-mail message must include the name of a contact person who can respond to questions about the submission, along with the contact person's daytime phone number, mailing, and e-mail address. The e-mail must also identify/describe each document attached to the e-mail message. The format used to generate each of the identified file(s) must also be listed.

5.5 Where To Submit E-mail

E-mail may be addressed to either specific individuals named as contacts or to the office specified in the regulation or communication specific to the document(s) being submitted, to addresses the NRC Web site provides for individual program offices or specific agency functions or services, or to the Office of Public Affairs. Individual program offices may be contacted by using the addresses found at the NRC Web site at http://www.nrc.gov, and selecting “Contact Us” from the home page. The Office of Public Affairs may also be contacted through the “Contact Us” page or at OPA@nrc.gov. The Office of the Secretary of the Commission may be contacted at 2206PETITIONS@NRC.GOV for 2.206 petitions (use upper case where indicated). The sender will not be e-mailed a confirmation of receipt of the submission.

6.0 Facsimile (Fax) Submissions

6.1 Who Can Participate

This guidance is intended for licensees, applicants, external entities (including Federal, State, and Local governments), vendors and members of the public who submit documents to the NRC.

6.2 What Can Be Submitted

Documents (except for collaborative communications with States and other Federal agencies) submitted by fax should contain only information that could be made available to the public and may be used for:

• Rulemaking petitions and comments in rulemaking proceedings.

• Requests for enforcement action under 10 CFR 2.206.

• FOIA requests and appeals made directly to the FOIA and Privacy Act Officer (unless Privacy Act information is sought; review Section 1.3.5 for additional details).

• Responses to Federal Register Notices or other agency communications where NRC has provided for response by fax.

• Responses to NRC licensing-related questions.

• Information from export/import license applicants, and licensees.

6.3 How To Send Facsimiles (Faxes)

Faxes must include the name of a contact person who can respond to questions about the submission, along with the contact person's daytime phone number and mailing or e-mail address.

6.4 Where To Submit Facsimiles (Faxes)

The NRC has established centralized receipt points (see listing of fax locations provided in Section 6.5) for official submissions transmitted by fax at each of the Regional Offices, the Office of International Programs, and NRC Headquarters. All official transmissions should be sent to one of these official receipt points to ensure that they are captured as official records of the agency.

6.5 Facsimile Locations and User Assistance

Location | Fax Number | User assistance and verifaction
Headquartedrs (24-Hour Operation) | 301-415-7010 or 301-415-7020 | 301-415-7000
Office of International Programs | 301-415-2395 | 301-415-1787
Office of the Secretary | 301-415-1101 | 301-415-1966
Freedom of Information Act and Privacy Act Officer | 301-415-5130 | 301-415-7169
Region 1 | 610-337-5324 | 610-337-5270
Region 2 | 404-562-4900 | 404-562-4827
Region 3 | 630-829-9886 | 630-810-4376
Region 4 | 817-860-8210 | 817-860-8100

7.0 Additional

Resources 7.1 User Assistance

To obtain general information about accessing documents filed electronically (viewing, printing, and downloading), contact the NRC Public Document Room (PDR) during business hours.

You may contact the PDR librarians by any of the following means:

Telephone: 1-800-397-4209 or 301-415-4737.

TTY (hearing impaired): 1-800-635-4512.

Facsimile: 301-415-3548.

E-mail: pdr@nrc.gov.

U. S. Mail: Public Document Room, (O1F13), U. S. Nuclear Regulatory Commission, Washington, DC 20555-0001.

Onsite at the PDR: One White Flint North, 11555 Rockville Pike (first floor), Rockville MD.

Hours of PDR operation:

Reading Room: 7:45 a.m.—4:15 p.m. eastern time, Federal Workdays.

Telephone Service: 8:30 a.m.—4:15 p.m., eastern time, Federal Workdays.

7.2 References

NRC, EIE Web site; http://www.nrc.gov/site-help/eie.html

The Code of Federal Regulations, Title 10—Energy http://www.nrc.gov. Select “Code of Federal Regulations” from the Index found on the home page.

Freedom of Information Act, 5 U.S.C. 552

Privacy Act, 5 U.S.C. 552a

[FR Doc. 02-21889 Filed 9-5-02; 8:45 am]

BILLING CODE 7590-01-P